ENVIRONMENTAL PROTECTION AGENCY

40 CFR Part 52

[EPA-R09-OAR-2015-0622; FRL-9947-59-Region 9]

Approval and Promulgation of Implementation Plans; California; California Mobile Source Regulations

AGENCY: Environmental Protection Agency.

ACTION: Final rule.

SUMMARY: The Environmental Protection Agency (EPA) is taking final action to approve a revision to the California State Implementation Plan (SIP) consisting of certain state regulations establishing standards and other requirements relating to the control of emissions from new on-road and new and in-use off-road vehicles and engines. The EPA is approving the SIP revision because the regulations meet the applicable requirements of the Clean Air Act. Approval of the regulations as part of the California SIP makes them federally enforceable.

DATES: This rule is effective on July 18, 2016.

ADDRESSES: The EPA has established a docket for this action under Docket ID Number EPA-R09-OAR-2015-0622. All documents in the docket are listed on the http://www.regulations.gov Web site. Although listed in the index, some information is not publicly available, e.g., confidential business information (CBI) or other information whose disclosure is restricted by statute. Certain other material, such as copyrighted material, is not placed on the Internet and will be publicly available only in hard copy form. Publicly available docket materials are available through http://www.regulations.gov, or please contact the person identified in the FOR FURTHER INFORMATION CONTACT section for additional availability information.

FOR FURTHER INFORMATION CONTACT: Doris Lo, EPA Region IX, (415) 972-3959, lo.doris@epa.gov.

SUPPLEMENTARY INFORMATION: Throughout this document, “we,” “us” and “our” refer to the EPA.

Table of Contents

I. Proposed Action

II. Public Comments and EPA Responses

III. Final Action

IV. Incorporation by Reference

V. Statutory and Executive Order Reviews

I. Proposed Action

On November 12, 2015 (80 FR 69915) (“proposed rule”), the EPA proposed to approve a SIP revision submitted by the California Air Resources Board (CARB) on August 14, 2015 consisting of certain state regulations establishing standards and other requirements relating to the control of emissions from new on-road and new and in-use off-road vehicles and engines (referred to herein as “mobile source regulations”) for which the EPA has previously issued waivers or authorizations under section 209(b) and section 209(e)(2), respectively, of the Clean Air Act (Act or CAA).

Our proposed rule provides background information concerning the CAA, national ambient air quality standards (NAAQS), SIPs, and other matters pertinent to this rulemaking. See 80 FR at pages 69916-69917. We noted in particular that a basic content requirement for SIPs is that they include enforceable emission limitations and other control measures, means, or techniques as may be necessary or appropriate to meet the applicable requirements of the CAA (see section 110(a)(2)(A)). We also noted that the EPA's long-standing practice was to allow California emissions reductions credit for mobile source regulations for which the EPA had issued waivers or authorizations under section 209 but that had not been submitted or approved as part of the SIP. We noted that the EPA's rationale for this long-standing practice was rejected by the Ninth Circuit in Committee for a Better Arvin v. EPA, 786 F.3d 1169 (9th Cir. 2015) (“Committee for a Better Arvin”), and that the decision in Committee for a Better Arvin led to the submittal by CARB of the mobile source regulations as a SIP revision on August 14, 2015.

In our proposed rule, we describe CARB's August 14, 2015 SIP revision as consisting of the regulations themselves and documentation of the public process conducted by CARB in approving the regulations as part of the California SIP. Specifically, the proposed rule includes table 1, which presents the contents of the SIP revision by mobile source category and provides, for each category, a listing of the relevant sections of the California Code of Regulations (CCR) that establish standards and other requirements for control of emissions from new on-road and new or in-use off-road vehicles or engines; the corresponding date of CARB's hearing or Executive Officer (EO) action through which the regulations or amendments were adopted; and the notice of decision in which the EPA granted a waiver or authorization for the given set of regulations. For this final rule, we are republishing table 1 from the proposed rule as amended in response to CARB comment #1 (see section II of this document).

Table 1—CARB SIP Revision Submittal Summary
Source category | Relevant sections of California Code of Regulations | Date of relevant CARB hearing date(s) or Executive Officer action | EPA Notice of decision
On-Road Passenger Cars, Light-Duty Trucks, and Medium-Duty Vehicles (LEV II) | Amendments to 13 CCR §§ 1961, 1965, and 1978 and the documents incorporated by reference (see table 2 below), effective for state law purposes on 12/04/03; and amendments to 13 CCR §§ 1961, 1976, 1978, and documents incorporated by reference (see table 2 below), effective for state law purposes on 2/17/07 | 12/12/02, 6/22/06 | 70 FR 22034 (4/28/05); 75 FR 44948 (7/30/10)
On-Road Passenger Cars, Light-Duty Trucks, and Medium-Duty Vehicles (LEV III) and Zero Emission Vehicles (ZEV) | Adoption of 13 CCR §§ 1961.2 and 1962.2 (excluding subsection 1962.2(g)(6)) and amendments to 13 CCR §§ 1900, 1956.8, 1960.1, 1961, 1962.1, 1962.2 (re-numbered to 1961.3), 1965, 1976, 1978, 2037, 2038, 2062, 2112, 2139, 2140, 2145, 2147, and 2235 and the documents incorporated by reference (see table 2 below), effective for state law purposes on 08/07/12; amendments to 13 CCR §§ 1900, 1956.8, 1960.1, 1961, 1961.2, 1962.1, 1962.2 (excluding subsection 1962.2(g)(6)(C)), and 1976 and the documents incorporated by reference (see table 2 below), effective for state law purposes on 12/31/12 | 01/26/12, 11/15/12 | 78 FR 2112 (1/9/13)
On-Road Heavy-Duty Gasoline Engines | 13 CCR § 1956.8 and the document incorporated by reference (see table 2 below), effective for state law purposes on 12/4/03 | 12/12/02, 9/5/03 (EO) | 75 FR 70237 (11/17/10)
On-Road Heavy-Duty Diesel Engines | Amendments to 13 CCR § 1956.8, and the document incorporated by reference (see table 2 below), effective for state law purposes on 11/17/02 | 10/25/01 | 70 FR 50322 (8/26/05)
On-Road Motorcycles | Amendments to 13 CCR §§ 1900, 1958 (excluding 1958(a)(1)), and 1965, and the document incorporated by reference (see table 2 below), effective for state law purposes on 11/22/99 | 12/10/98 | 71 FR 44027 (8/3/06)
On-Road Heavy-Duty Engines—On-Board Diagnostic System (HD OBD) | 13 CCR §§ 1971.1 and 1971.5, effective for state law purposes on 6/17/10 | 5/28/09 | 77 FR 73459 (12/10/12)
On-Road Heavy Duty Vehicles—engine or vehicle idle controls | 13 CCR §§ 1956.8, 2404, 2424, 2425, and 2485 (excluding subsections 2485(c)(1)(A), 2485(c)(1)(B), and 2485(c)(3)(B)), and the document incorporated by reference (see table 2 below), effective for state law purposes on 11/15/2006 | 10/20/05 | 77 FR 9239 (2/16/12)
In-Use Diesel-Fueled Transport Refrigeration Units | 13 CCR § 2477, as amended, effective for state law purposes on 3/7/11 | 11/18/10 | 78 FR 38970 (6/28/13)
Commercial Harbor Craft | 17 CCR § 93118.5 (excluding subsection 93118.5(e)(1)), effective for state law purposes on 11/19/08 | 11/15/07, 9/2/08 (EO) | 76 FR 77521 (12/13/11)
Off-Road Large Spark-Ignition (LSI) Engines | New LSI engine emissions standards: 13 CCR §§ 2430, 2431, 2433, 2434, and 2438; LSI fleet requirements: 13 CCR §§ 2775, 2775.1 and 2775.2, and the documents incorporated by reference (see table 2 below), effective for state law purposes on 5/12/07 | 5/25/06, 3/2/07 (EO) | 77 FR 20388 (4/4/12)
Auxiliary Diesel Engines on Ocean-Going Vessels | 13 CCR § 2299.3 and 17 CCR § 93118.3, effective for state law purposes on 01/02/09 | 12/6/07, 10/16/08 (EO) | 76 FR 77515 (12/13/11)
In-Use Off-Road Diesel Fueled Fleets | 13 CCR §§ 2449 (excluding subsection 2449(d)(2)) 2449.1, and 2449.2, effective for state law purposes on 12/14/11 | 5/25/07, 7/26/07, 12/11/08, 1/22/09, 7/23/09, 12/17/10 | 78 FR 58090 (9/20/13)
Mobile Cargo Handling Equipment (CHE) | 13 CCR § 2479 (excluding subsections (e)(2) and (e)(4)), effective for state law purposes on 12/31/06; and amendments to 13 CCR § 2479 (excluding subsections (e)(2) and (e)(4)), effective for state law purposes on 10/14/12 | 12/8/05, 9/22/11 | 77 FR 9916 (2/21/12); 80 FR 26249 (5/7/15)
Small Off-Road Engines (SORE) | 13 CCR §§ 2401, 2403, 2404, 2405, 2406, 2408, 2408.1, and 2409, and the document incorporated by reference (see table 2 below), effective for state law purposes on 5/5/10 | 11/21/08 | 80 FR 26041 (5/6/15)
Off-Road Compression—Ignition (CI) Engines | 13 CCR §§ 2420, 2421, 2423, 2424, 2425, 2425.1, 2426, and 2427, and the documents incorporated by reference (see table 2 below), effective for state law purposes on 1/6/06 | 1/27/00, 12/9/04 | 75 FR 8056 (2/23/10)
In-Use Portable Diesel-Fueled Engines (PDE) | 17 CCR §§ 93116 through 93116.5 (excluding subsection 93116.3(a)), effective for state law purposes on 3/11/05 | 2/26/04 | 77 FR 72846 (12/6/12)
Portable Equipment Registration Program (PERP) | 13 CCR §§ 2451, 2452, 2453, 2455 (excluding subsections 2455(a) and 2455(b)), 2456 (excluding subsections 2456(a), 2456(d)(3), 2456(d)(5), and 2456(d)(6)), 2458, 2459, 2460, 2461, and 2462, as amended, effective for state law purposes on 9/12/07 | 3/27/97, 7/31/07 (EO), 12/10/98, 2/26/04, 6/22/06, 3/22/07 | 77 FR 72851 (12/6/12)
Spark-Ignition Marine Engines and Boats (Marine SI) | 13 CCR §§ 2111, 2112, Appendix A therein, 2139, 2147, 2440, 2442, 2443.1, 2443.2, 2444.1, 2444.2, 2445.1, 2445.2, 2446, 2447 and 2474, and the documents incorporated by reference (see table 2 below), effective for state law purposes on 08/16/09 | 7/24/08, 6/5/09 (EO) | 80 FR 26032 (5/16/15)
Off-Highway Recreational Vehicles and Engines (OHRV) | 13 CCR §§ 2111, 2112, 2411, 2412, and 2413, and the document incorporated by reference (see table 2 below), effective for state law purposes on 8/15/07 | 7/20/06 | 79 FR 6584 (2/4/14)

The regulations submitted by CARB and listed in table 1 incorporate by reference certain documents that establish test procedures and labeling specifications, among other things, and CARB submitted these documents as part of the overall SIP revision. In our proposed rule, we included a table (table 2) that lists the incorporated documents included in the SIP submittal and are republishing that table in this final rule. Our proposed rule also included a third table in which we described the applicability of the regulations listed in table 1 above and summarized some of the key emissions control requirements contained in the rules. In today's action, we are approving the regulations in table 1 and the test procedures and specifications in table 2 as a revision to the California SIP.¹

¹ There is one exception to the EPA's approval of the regulations and test procedures listed in tables 1 and 2. The exception is 13 CCR section 2449.2(f)(4), a provision for which the EPA is deferring final action at this time.

Table 2—Documents Incorporated by Reference in CARB Regulations Listed in Table 1, Above, and Submitted as Part of SIP Revision
On-Road Passenger Cars, Light-Duty Trucks, and Medium-Duty Vehicles (LEV II):
California Exhaust Emission Standards and Test Procedures for 2001 and Subsequent Model Passenger Cars, Light-Duty Trucks and Medium-Duty Vehicles, as last amended September 5, 2003.
California Motor Vehicle Emission Control and Smog Index Label Specifications for 1978 through 2003 Model Year Motorcycles, Light-, Medium- and Heavy-Duty Engines and Vehicles, as last amended September 5, 2003.
California Smog Index Label Specifications for 2004 and Subsequent Model Passenger Cars and Light-Duty Trucks, adopted September 5, 2003.
California Refueling Emission Standards and Test Procedures for 2001 and Subsequent Model Motor Vehicles, as last amended September 5, 2003.
California Evaporative Emission Standards and Test Procedures for 2001 and Subsequent Model Motor Vehicles, as amended June 22, 2006.
California Refueling Emission Standards and Test Procedures for 2001 and Subsequent Model Motor Vehicles, as last amended June 22, 2006.
California Exhaust Emission Standards Test Procedures for 2001 and Subsequent Model Passenger Cars, Light-Duty Trucks, and Medium-Duty Vehicles, as last amended June 22, 2006.
On-Road Passenger Cars, Light-Duty Trucks, and Medium-Duty Vehicles (LEV III) and Zero Emission Vehicles (ZEV):
California Exhaust Emission Standards and Test Procedures for 2004 and Subsequent Model Heavy-Duty Diesel Engines and Vehicles, as last amended March 22, 2012.
California Exhaust Emission Standards and Test Procedures for 2004 and Subsequent Model Heavy-Duty Otto-Cycle Engines, as last amended March 22, 2012.
California Non-Methane Organic Gas Test Procedures, as last amended March 22, 2012.
California 2001 through 2014 Model Criteria Pollutant Exhaust Emission Standards and Test Procedures and 2009 through 2016 Model Greenhouse Gas Exhaust Emission Standards and Test Procedures for Passenger Cars, Light-Duty Trucks, and Medium-Duty Vehicles, as last amended March 22, 2012, excluding GHG-related provisions.
California Environmental Performance Label Specifications for 2009 and Subsequent Model Year Passenger Cars, Light-Duty Trucks, and Medium-Duty Passenger Vehicles, as last amended March 22, 2012.
California Evaporative Emission Standards and Test Procedures for 2001 and Subsequent Model Motor Vehicles, as last amended March 22, 2012.
California Refueling Emission Standards and Test Procedures for 2001 and Subsequent Model Motor Vehicles, as last amended March 22, 2012.
Specifications for Fill Pipes and Openings of 1977 through 2014 Model Motor Vehicle Fuel Tanks, as last amended March 22, 2012.
Specifications for Fill Pipes and Openings of 2015 and Subsequent Model Motor Vehicle Fuel Tanks, adopted March 22, 2012.
California 2015 and Subsequent Model Criteria Pollutant Exhaust Emission Standards and Test Procedures and 2017 and Subsequent Model Greenhouse Gas Exhaust Emission Standards and Test Procedures for Passenger Cars, Light-Duty Trucks, and Medium-Duty Vehicles, adopted March 22, 2012, excluding GHG-related provisions.
California Exhaust Emission Standards and Test Procedures for 2009 through 2017 Model Zero-Emission Vehicles and Hybrid Electric Vehicles, in the Passenger Car, Light-Duty Truck, and Medium-Duty Vehicle Classes, as last amended March 22, 2012, excluding GHG-related provisions.
California Exhaust Emission Standards and Test Procedures for 2018 and Subsequent Model Zero-Emission Vehicles and Hybrid Electric Vehicles, in the Passenger Car, Light-Duty Truck, and Medium-Duty Vehicle Classes, adopted March 22, 2012, excluding GHG-related provisions.
California 2015 and Subsequent Model Criteria Pollutant Exhaust Emission Standards and Test Procedures and 2017 and Subsequent Model Greenhouse Gas Exhaust Emission Standards and Test Procedures for Passenger Cars, Light-Duty Trucks, and Medium-Duty Vehicles, as last amended December 6, 2012, excluding GHG-related provisions.
California 2001 through 2014 Model Criteria Pollutant Exhaust Emission Standards and Test Procedures and 2009 through 2016 Model Greenhouse Gas Exhaust Emission standards and Test Procedures for Passenger Cars, Light-Duty Trucks, and Medium-Duty Vehicles, as last amended December 6, 2012, excluding GHG-related provisions.
California Non-Methane Organic Gas Test Procedures, as last amended December 6, 2012.
California Evaporative Emission Standards and Test Procedures for 2001 and Subsequent Model Motor Vehicles, as last amended December 6, 2012.
California Exhaust Emission Standards and Test Procedures for 2004 and Subsequent Model Heavy-Duty Otto-Cycle Engines, as last amended December 6, 2012.
California Exhaust Emission Standards and Test Procedures for 2004 and Subsequent Model Heavy-Duty Diesel Engines and Vehicles, as last amended December 6, 2012.
California Exhaust Emission Standards and Test Procedures for 2009 through 2017 Model Zero-Emission Vehicles and Hybrid Electric Vehicles, in the Passenger Car, Light-Duty Truck, and Medium-Duty Vehicle Classes, as last amended December 6, 2012.
California Exhaust Emission Standards and Test Procedures for 2018 and Subsequent Model Zero-Emission Vehicles and Hybrid Vehicles, in the Passenger Car, Light-Duty Truck, and Medium-Duty Vehicle Classes, adopted December 6, 2012, excluding GHG-related provision.
On-Road Heavy-Duty Gasoline Engines:
California Exhaust Emission Standards and Test Procedures for 2004 and Subsequent Model Heavy-Duty Otto-cycle Engines, as last amended December 12, 2002.
On-Road Heavy-Duty Diesel Engines:
California Exhaust Emission Standards and Test Procedures for 1985 and Subsequent Model Heavy-Duty Diesel Engines and Vehicles, as last amended October 25, 2001.
On-Road Motorcycles:
California Motor Vehicle Emission Control and Smog Index Label Specifications, as last amended October 22, 1999.
On-Road Heavy Duty Vehicles—Reduced Idling:
California Exhaust Emission Standards and Test Procedures for 2004 and Subsequent Model Heavy-Duty Diesel Engines, as last amended September 1, 2006.
Off-Road Large Spark-Ignition (LSI) Engines:
California Exhaust Emission Standards and Test Procedures for New 2001 through 2006 Off-Road Large Spark-Ignition Engines, Parts I and II, adopted September 1, 1999 and as last amended March 2, 2007.
California Exhaust and Evaporative Emission Standards and Test Procedures for 2007 through 2009 Off-Road Large Spark-Ignition Engines, (2007-2009 Test Procedure 1048), adopted March 2, 2007.
California Exhaust and Evaporative Emission Standards and Test Procedures for New 2010 and Later Off-Road Large Spark-Ignition Engines, (2010 and Later Test Procedure 1048), adopted March 2, 2007.
California Exhaust and Evaporative Emission Standards and Test Procedures for New 2007 and Later Off-Road Large Spark-Ignition Engines (Test Procedures 1065 and 1068), adopted March 2, 2007.
Small Off-Road Engines (SORE):
California Exhaust Emission Standards and Test Procedures for 2005 and Later Small Off-Road Engines, as last amended February 24, 2010.
Off-Road Compression-Ignition (CI) Engines:
California Exhaust Emission Standards and Test Procedures for New 2000 and Later Tier 1, Tier 2, and Tier 3 Off-Road Compression-Ignition Engines, Part I-B, adopted January 28, 2000 and as last amended October 20, 2005.
California Exhaust Emission Standards and Test Procedures for New 1996 and Later Tier 1, Tier 2, and Tier 3 Off-Road Compression-Ignition Engines, Part II, adopted May 12, 1993 and as last amended October 20, 2005.
California Exhaust Emission Standards and Test Procedures for New 2008 and Later Tier 4 Off-Road Compression-Ignition Engines, Part I-C, adopted October 20, 2005.
Spark-Ignition Marine Engines and Boats (Marine SI):
California Exhaust Emission Standards and Test Procedures for 2001 Model Year and Later Spark-Ignition Marine Engines, as last amended June 5, 2009.
Procedures for Exemption of Add-On and Modified Parts for Off-Road Categories, as last amended June 5, 2009.
Off-Highway Recreational Vehicles and Engines (OHRV):
California Exhaust Emissions Standards and Test Procedures for 1997 and Later Off-Highway Recreational Vehicles, and Engines, as last amended August 15, 2007.

We noted in our proposed rule that CARB has expressly excluded from the August 14, 2015 SIP submittal certain sections or subsections of California code that have been authorized or waived by the EPA under CAA section 209. The excluded provisions pertain to:

• Greenhouse Gas (GHG) exhaust emission standards 2009 through 2016 Model Passenger Cars, Light-Duty Trucks, and Medium-Duty Vehicles, and 2017 and subsequent Model Passenger Cars, Light-Duty Trucks, and Medium-Duty Vehicles; and

• GHG related provisions incorporated in the test procedures.

Also, CARB has expressly excluded certain sections or subsections of California code that are not subject to preemption under CAA section 209 and thus not included in the related waiver or authorization by the EPA. These provisions pertain to:

• Fuel use requirements;

• Idling restrictions on drivers;

• Opacity standards;

• Daily mass emission limits (from the PERP regulations); and

• Certain labeling and consumer notification requirements.

On pages 69923-69925 of our proposed rule, we described how we evaluated the regulations and how we determined that the regulations meet all applicable CAA requirements in order to be included in the California SIP. In short, we determined that:

• CARB provided adequate public notice of a comment period and a hearing on the draft SIP revision prior to adoption and submittal to the EPA, and thereby complied with the applicable procedural requirements for SIP revisions under the CAA section 110(l) and 40 CFR 51.102;

• CARB has adequate legal authority to implement the regulations because state law so provides, because the regulations are not preempted under the CAA (pursuant to waivers or authorizations issued for them by the EPA), and because CARB is not otherwise prohibited by any provision of federal or state law from carrying out the regulations;

• The regulations include all of the elements necessary to provide for practical enforceability, including clear applicability and exemption provisions, emissions standards and other requirements, test methods, recordkeeping and reporting provisions, and thereby establish enforceable emissions limitations as required under CAA section 110(a)(2)(A); ²

² After proposing action on CARB's mobile source regulations, we discovered a specific provision in the “Surplus Off-Road Opt-In for NOX (SOON) Program” portion of CARB's Regulation for In-Use Off-Road Diesel-Fueled Fleets that cannot be reconciled with the principle that SIP rules relied upon for emissions reductions must be federally enforceable. The specific provision is 13 CCR section 2449.2(f)(4) (“ARB Authority”), which states, in pertinent part: “ARB has sole authority to enforce the requirements of section 2449.2.” We find 13 CCR section 2449.2(f)(4) to be severable from the rest of the regulation and have not included it in today's approval action.

• CARB's mobile source regulations submitted for approval as a revision to the California SIP establish emission limitations relied upon by RFP, attainment, and maintenance plans developed by California to meet CAA SIP requirements for nonattainment areas, and thus would not interfere with such CAA requirements for the purposes of CAA section 110(l); and

• Given the longstanding nature of CARB's mobile source program, and its documented effectiveness at achieving significant reductions from mobile sources, the state has adequate personnel and funding to carry out the mobile source regulations submitted for approval as part of the California SIP.

For more background information on the regulatory context for this final rule, and for additional detail on the SIP submittal itself, and our evaluation, please see our proposed rule.

II. Public Comments and EPA Responses

The EPA's proposed rule, published at 80 FR 69915 (November 12, 2015), provided for a 30-day comment period. The EPA received two comment letters in response to the proposed rule: (1) A comment letter dated December 8, 2015 from CARB; and (2) a comment letter dated December 14, 2015 from the Owner-Operator Independent Drivers Association, Inc. (OOIDA). In the paragraphs below, we summarize the comments and provide our responses.

CARB comment #1: CARB indicates that while the August 14, 2015 SIP revision submittal included two regulations affecting Mobile Cargo Handling Equipment at Ports and Intermodal Rail Yards (CHE Regulation), table 1 of the EPA's November 12, 2015 proposed rule only lists one such regulation. CARB notes that, while table 1 of the proposed rule only listed one CHE regulation, table 3 of the proposed rule lists both. CARB suggests that table 1 be amended to include both CHE regulations, consistent with CARB's August 14, 2015 SIP revision submittal.

EPA response to CARB comment #1: CARB is correct that the proposed action covers both CHE rules and that the EPA inadvertently failed to include one of the two CHE regulations in table 1 of the proposed rule. Table 1, as amended to list both CHE regulations, is included in the preamble to this final rule.

OOIDA comment #1: OOIDA contends that the EPA's proposed action to approve CARB's mobile source regulations as part of the California SIP is inconsistent with the Ninth Circuit's decision in Committee for a Better Arvin by failing to demonstrate how CARB has satisfied the requirement under the CAA that SIPs must include “enforceable emission limitations and other control measures . . . as may be necessary or appropriate to meet the applicable requirements of [the CAA].” Section 110(a)(2)(A). OOIDA asserts that the materials that CARB and the EPA are relying upon were previously submitted as part of CARB's waiver or authorization requests to the EPA, and thus are outdated. OOIDA notes that many of these regulations have been in effect under state law for years, and thus, to comply with Committee for a Better Arvin, the EPA must require CARB to submit current evidence showing how well these requirements have been adopted, whether the reductions in pollution have been met, what the experience of the regulated community has been, and whether CARB's cost estimates were accurate.

EPA response to OOIDA comment #1: We disagree that our action to approve California's mobile source regulations that have been waived or authorized by the EPA under CAA section 209 is inconsistent with the Ninth Circuit's decision in Committee for a Better Arvin or that the information sought by OOIDA is necessary to establish that the regulations are “necessary or appropriate” for the purposes of CAA section 110(a)(2)(A).

First, in Committee for a Better Arvin, the Ninth Circuit remanded to the EPA the Agency's final actions approving two specific regional plans that were adopted to meet nonattainment area SIP requirements and that rely, in part, on emissions reductions from so-called “waiver” measures, i.e., CARB mobile source regulations for which the EPA has issued waivers or authorizations under CAA section 209. In so doing, the court rejected the EPA's arguments supporting the Agency's longstanding practice of allowing California to rely on emissions reductions from state mobile source measures waived or authorized by the EPA under CAA section 209 to meet CAA SIP requirements without requiring approval of those measures into the California SIP. The Ninth Circuit found that CAA section 110(a)(2)(A) plainly mandates that the SIP include all state and local emission limitations, control measures, means, and techniques on which the state relies to assure compliance with the CAA. 786 F.3d 1169, at 1175-1178 (9th Cir. 2015). The Court found support for its view in the Act's provisions that allow the EPA or citizens to commence lawsuits to enforce emissions standards or limitations established under the Act. Id.

In response to the decision, CARB selected for the SIP those mobile source regulations that represent the most current set of such regulations that have been waived or authorized by the EPA under CAA section 209 and that are relied upon to provide emissions reductions in the most recently-approved or pending SIPs for the various nonattainment areas in California, such as the two regional plans that were the subject of the remand in Committee for a Better Arvin. The issue of whether the emissions reductions anticipated by CARB when adopting the regulations reasonably approximate those that have actually occurred is not relevant for the EPA's action on CARB's mobile source regulations SIP revision. The fact that California is relying on the emissions reductions from the mobile source regulations to meet any CAA requirements makes the regulations “necessary or appropriate” for inclusion in the SIP, regardless of whether the reductions are the same as those originally estimated by CARB at the time of submittal of the waiver or authorization request.

In response to CARB's SIP revision submittal, however, the EPA did not simply propose to approve the mobile source regulations without review and evaluation for compliance with relevant CAA requirements for such regulations. For example, the EPA reviewed the regulations to determine whether SIP procedural requirements under CAA section 110(a)(2) and related EPA regulations were met; to determine whether the regulations are enforceable and thereby comply with the applicable requirement in CAA section 110(a)(2)(A); to determine whether the state has provided necessary assurances that it has adequate personnel, funding, and authority to implement the regulations and thereby comply with the applicable requirements in CAA section 110(a)(2)(E); and to determine whether the SIP revision would interfere with attainment or reasonable further progress or any other CAA requirement as required under CAA section 110(l). See our proposed rule, 80 FR at 69923-69925. For the reasons stated in the proposed rule, we concluded that CARB's mobile source regulation SIP revision met all of the relevant CAA requirements and would not interfere with attainment or reasonable further progress or any other CAA requirement.

One consideration that the EPA did not take into account was the cost of compliance by manufacturers or owners/operators subject to CARB's mobile source regulations. Such cost issues standing alone, which OOIDA believes CARB must submit and that the EPA must consider, are not relevant to the EPA's review of SIPs and SIP revisions under CAA section 110. This has been settled law since 1976 when the Supreme Court issued its decision in Union Electric Co. v. EPA, 427 U.S. 246, at 255-266 (1976) (“Union Electric”), rehearing denied 429 U.S. 873 (1976). In Union Electric, the Supreme Court found that the 1970 version of section 110(a)(2) did not allow the EPA to disapprove an attainment sulfur dioxide (SO2) SIP on the ground that the SIP's control measures for complying with the SO2 NAAQS would be so stringent as to be technologically or economically infeasible. Id. at 265. The Supreme Court made it clear that Congress left states free to choose technology-forcing measures to achieve attainment within what was then a three-year deadline. Id. at 268-269. While the CAA has been amended a number of times since 1970, the basic allocation of responsibilities on the states in developing and submitting SIPs and on the EPA in reviewing SIPs and SIP revisions remains the same today, and thus the holding of Union Electric continues to inform the EPA's review of SIPs and SIP revisions today.

OOIDA comment #2: Citing CAA section 307(b)(1), OOIDA asserts that the EPA must specify whether any SIP approval has nationwide scope or effect. OOIDA further declares that if the EPA fails to make such an express determination, then OOIDA will advise its members residing outside of California that they do not need to comply with any of the California laws, statutes or regulations included in the SIP. If, on the other hand, the EPA finds that the SIP does have “nationwide scope and effect,” then OOIDA claims that CARB is required under CAA section 110(a)(2)(E) to satisfy the EPA that the imposition of California's regulatory regime on interstate truckers residing outside of California is consistent with the Commerce Clause of the U.S. Constitution. Without such a demonstration from CARB, and a finding of nationwide scope or effect by the EPA, OOIDA objects to the EPA's proposed approval of CARB's mobile source regulations as part of the California SIP.

EPA response to OOIDA comment #2: CAA section 307(b)(1) provides that a petition for review of the EPA in promulgating certain specific types of standards, such as the NAAQS, “or any other nationally applicable regulations promulgated, or final action taken, by the [EPA] under the [CAA] may be filed only in the U.S. Court of Appeals for the District of Columbia.” A petition for review of the EPA's action in approving a SIP under CAA section 110 that is locally or regionally applicable may be filed only in the U.S. Court of Appeals for the appropriate circuit unless such SIP action is based on a determination of “nationwide scope or effect” and if in taking such action the EPA finds and publishes that such action is based on such a determination. In that case, CAA section 307(b)(1) provides for review of the EPA's SIP action in the U.S. Court of Appeals for the District of Columbia. Thus, section 307(b)(1) not only confers jurisdiction upon the U.S. Courts of Appeals but also specifies how the venue for petitions for review of actions covered by section 307(b)(1) is determined. Dalton Trucking Inc. v. EPA, No. 13-1283, slip op. at 7-8 (D.C. Cir. Dec. 18, 2015).

When the EPA issues a final decision waiving or authorizing CARB mobile source regulations under CAA section 209 of the CAA, the proper venue for judicial review of that decision is the U.S. Court of Appeals for the D.C. Circuit if either the decision is “nationally applicable” or the EPA determines the decision is of “nationwide scope or effect” and publishes the determination. Section 307(b)(1). In making a determination of nationwide scope or effect for a waiver or authorization under section 209, the EPA takes into account that other states may adopt California's standards for which a section 209 waiver or authorization has been granted if certain criteria are met. Sections 177 and 209(e)(2)(B) allow other states to adopt (and subsequently enforce in their state) California's regulations for which the EPA has issued waivers or authorizations. The EPA may also consider the applicability of such regulations to manufacturers or owner/operators residing outside of California but selling, leasing, or operating vehicles or equipment in California.³

³ The D.C. Circuit recently concluded that a decision under section 209 is not “nationally applicable” under section 307(b) if it applies only to vehicles owned or operated in California, even if those vehicles are based outside California. Dalton Trucking Inc. v. EPA, No. 13-1283, slip op. at 10 (D.C. Cir. Dec. 18, 2015). However, a decision that is not applicable outside California can still have effect outside California.

In this case, the EPA is taking action under section 110 of the CAA to approve CARB's mobile source regulations as part of the California SIP. Unlike the Agency's issuance of a waiver or authorization under section 209, approval of CARB's mobile source regulations under section 110 does not enable other states to adopt the regulations. The EPA's approval of the regulations under section 110 does extend federal enforceability to the standards. See CAA sections 113 (EPA enforcement authority) and 304 (citizen suits). However, that is true of all SIP approval actions under section 110, and thus, like other SIP approval actions, we find that our final action herein is not nationally applicable, nor is it of nationwide scope or effect. Petitions for review of this final action therefore must be filed in the U.S. Court of Appeals for the appropriate circuit, i.e., in this case, the U.S. Court of Appeals for the Ninth Circuit.

Lastly, because the EPA finds that the Agency's final action herein is not of “nationwide scope or effect,” no further response to OOIDA's comment is necessary.

OOIDA comment #3: OOIDA notes that, in addition to being an affirmative grant of congressional authority, the Commerce Clause of the U.S. Constitution, which authorizes Congress “[t]o regulate Commerce . . . among the several states,” is in its negative aspect also a limitation on the regulatory authority of the states. OOIDA contends that, in its negative aspect, the Commerce Clause protects the nation against economic Balkanization and state regulations affecting interstate commerce where the burden on commerce is excessive in relation to the putative local benefits. For example, OOIDA cites high aggregate costs purportedly incurred to comply with two specific CARB regulations, the Heavy-Duty (Truck) Greenhouse Gas (HD GHG) Regulations and the In-Use On-Road Heavy-Duty Diesel-Fueled Vehicles Regulation (“Truck and Bus Regulation”). OOIDA argues that the EPA should expressly consider and make findings whether the aggregate impact of regulations which California has sought to “federalize” through SIP approvals violate these Constitutional principles.

EPA response to OOIDA comment #3: First of all, we note that today's action does not include CARB's HD GHG Regulations or the Truck and Bus Regulation. The former was not included in the SIP revision submittal and has never been submitted as part of the California SIP, and the latter was submitted and approved by the EPA as a SIP revision in 2012 at 77 FR 20308 (April 4, 2012).

As to the Commerce Clause comment more generally, the negative aspect of the Commerce Clause to which OOIDA refers is often referred to as the “dormant” Commerce Clause. OOIDA notes some of the basic principles under which courts have found state regulations to be invalid under the dormant Commerce Clause.⁴ OOIDA asks the EPA to expressly consider and make findings whether the aggregate impact of regulations that California has sought to “federalize” through SIP approvals violate dormant Commerce Clause principles.

⁴ OOIDA cites the court's reasoning in Union Pac. R.R. v. Cal. Pub. Utils. Comm'n, 346 F.3d 851, 871 (9th Cir. 2003) in support of its arguments challenging California's mobile source regulations on the grounds of extra-territorial impact. In Union Pac. R.R., the Ninth Circuit Court of Appeals struck down certain California regulations having an extraterritorial impact; however, in more recent years, the Ninth Circuit appears to have modified its views on the extra-territoriality doctrine. In Rocky Mountain Farmers Union v. Corey, 730 F.3d 1070, 1101 (9th Cir. 2013), a case challenging California's Low Carbon Fuel Standard, the Ninth Circuit noted: “In the modern era, the Supreme Court has rarely held that statutes violate the extraterritoriality doctrine[.]”, and concluded: “The district court held that the Fuel Standard regulated extraterritorial conduct because: (1) . . . it `attempts to control' out-of-state conduct, . . . We disagree.” Id. We also note that, while Rocky Mountain Farmers Union stands for the proposition that CAA section 211(c)(4)(B) “does not insulate California from scrutiny under the dormant Commerce Clause,” Id., at 1107, CAA section 211(c)(4) does not establish for motor vehicle fuels the type of specific process under which California rules shall be waived or authorized by the EPA as that found for mobile source emissions standards in CAA sections 209(b) and (e). See additional discussion regarding the dormant Commerce Clause and California regulations waived or authorized under CAA sections 209(b) and (e) later in the response to OOIDA comment #3.

Under the CAA, the EPA's responsibility in reviewing SIPs and SIP revisions is to ensure that all CAA requirements that apply to a given SIP or SIP revision are met, and if a given SIP or SIP revision meets minimum applicable CAA requirements, then the EPA “shall” approve it. See CAA section 110(k)(3). Among the CAA requirements that apply to SIPs or SIP revisions is section 110(a)(2)(E), which provides in relevant part that SIPs and SIP revisions must provide necessary assurances that the state will have adequate authority under state law to carry out such SIP and is not prohibited by any provision of federal or state law from carrying out such SIP. In this instance, the EPA has issued waivers or authorization under section 209 for all of the subject regulations (and in doing so has removed the federal Clean Air Act preemption), and the EPA has found CARB to have the necessary legal authority to enforce the standards under state law. Furthermore, none of the subject regulations has been found by any court to be preempted under the dormant Commerce Clause or any other federal law, and thus, CARB is not prohibited from carrying out such SIP.

Moreover, in this instance, the “dormant” Commerce Clause is no obstacle to the EPA's approval of CARB's mobile source regulations SIP revision. As a general matter, the “dormant” Commerce Clause acts to limit certain types of state regulation that affect interstate commerce, but does not limit actions by federal agencies, such as the EPA. Additionally, “dormant” Commerce Clause principles simply do not apply where Congress has so clearly established a process under which the EPA must waive preemption if certain conditions are met. Here, the regulations submitted as part of CARB's SIP revision fall within the scope of CAA section 209, the Congressional provision under which the explicit general preemption of state mobile source regulations may be waived for California. Congress can authorize state or local government action that otherwise would violate the “dormant” Commerce Clause, even if the action ultimately interferes with interstate commerce. See White v. Massachusetts Council of Constr. Employers, Inc., 460 U.S. 204, 213 (1983). Both the legislative history of CAA section 209 and the text of the statute itself show that Congress affirmatively contemplated the type of regulations at issue here, even assuming those regulations might otherwise be considered to interfere with interstate commerce. See Motor & Equip. Mfrs. Ass'n v. EPA, 627 F.2d 1095 (D.C. Cir. 1979) (“MEMA I”). The EPA has consistently interpreted these provisions as providing a narrow review of California's decision making. These views are consistent with the views we expressed in more detail in our recent brief in Owner-Operator Independent Drivers Association, Inc. v. EPA, D.C. Cir., Case No. 14-1192 (“OOIDA v. EPA”), which has been placed in the docket for this rulemaking. While the specific California regulations at issue in OOIDA v. EPA are not included in the SIP revision approved in today's action, we believe that the views expressed in our brief in that case on the Commerce Clause apply more generally to EPA actions and to California regulations (including those approved herein) for which the EPA has issued waivers or authorizations and thus we are adopting the reasoning set forth therein in support of today's action.

Lastly, Congress allows for cost considerations in reviewing requests for waivers of preemption under section 209 of the Act. The third prong of EPA's consideration (section 209(b)(1)(C) for on-road waivers and section 209(e)(2)(A)(iii) for off-road authorizations) includes an assessment of whether CARB's regulations are technologically infeasible. Such assessment includes a review of whether those opposing the waiver have demonstrated that there is inadequate lead time to permit the development of technology necessary to meet the regulations at issue, giving appropriate consideration to the cost of compliance within that time frame.⁵ Each of the regulations approved in today's actions were the subject of a waiver or authorization by the EPA under section 209, and thus, cost compliance issues have already been considered by the Agency in that context. The EPA does not intend to reopen those issues through today's action under CAA section 110 on CARB's SIP revision.

⁵ See 79 FR 46256, 46262-46264. In MEMA I, the court addressed the cost of compliance issue in reviewing a waiver decision. According to the court: Section 202's cost of compliance concern, juxtaposed as it is with the requirement that the Administrator provide the requisite lead time to allow technological developments, refers to the economic costs of motor vehicle emission standards and accompanying enforcement procedures. See S. Rep. No. 192, 89th Cong., 1st Sess. 5-8 (1965); H.R. Rep. No. 728 90th Cong., 1st Sess. 23 (1967), reprinted in U.S. Code Cong. & Admin. News 1967, p. 1938. It relates to the timing of a particular emission control regulation rather than to its social implications. Congress wanted to avoid undue economic disruption in the automotive manufacturing industry and also sought to avoid doubling or tripling the cost of motor vehicles to purchasers. It, therefore, requires that the emission control regulations be technologically feasible within economic parameters. Therein lies the intent of the cost of compliance requirement (emphasis added).

OOIDA Comment #4: OOIDA believes that the costs to comply with CARB's On-Road Heavy-Duty Vehicle—Engine or Vehicle Idle Controls (“Anti-Idling”) Regulations disproportionately burden motor carriers and drivers from outside of the State of California because local California truck owners who go home at night on a regular basis are not pressured to purchase an Alternative Power Source (APS) to condition the truck cab for the comfort of the driver for those times when the idling shutdown system activates in uncomfortably hot or cold weather. On the benefit side, OOIDA contends that CARB did not quantify the environmental benefits that will be derived from the Anti-Idling Regulations in either the SIP revision or the waiver request to the EPA for the rules back in 2008. OOIDA believes that the burden of these regulations upon out-of-state trucks far exceeds the air pollution benefits, but in any event, now that the regulations have been in effect for several years, OOIDA states that the EPA should not approve the Anti-Idling Regulations as part of the SIP until CARB presents, and the EPA considers, up-to-date information concerning costs and benefits.

EPA response to OOIDA comment #4: CARB included the Anti-Idling Regulations in the package of mobile source regulations submitted as part of the California SIP because recent and pending regional air quality plans depend upon the emissions reductions from implementation of the regulations. At the time the regulations were adopted, CARB estimated statewide benefits from reducing idling of sleeper berth equipped trucks at 46 tons per day of oxides of nitrogen, 4.2 tons per day of reactive organic gases, and 0.4 tons per day of particulate matter in year 2010.⁶

⁶ CARB's Updated Informative Digest, “Requirements to Reduce Idling Emissions from New and In-Use Trucks, Beginning in 2008,” posted September 6, 2006.

As noted previously, the CAA requires the EPA to approve SIPs and SIP revisions that meet the applicable requirements of the CAA. One of those requirements involves a determination that the state has provided necessary assurances that the state is not prohibited by any provision of federal or state law from carrying out the SIP (see CAA section 110(a)(2)(E)), and in this case, no court has found the Anti-Idling Regulations to be in violation of the Commerce Clause or any other provision of federal law.

Also, as noted above in our responses to OOIDA comment #1, under Union Electric, compliance cost issues standing alone are not relevant to the EPA's review of SIPs and SIP revisions under CAA section 110, and as noted in response to OOIDA comment #3, the Commerce Clause acts to limit certain types of state regulation that affect interstate commerce, but does not limit actions by federal agencies, such as the EPA. As also previously explained, the “dormant” Commerce Clause principles do not apply where Congress has established a process under which the EPA must waive preemption if certain conditions are met. The EPA's views expressed herein concerning the reach of the “dormant” Commerce Clause and the viability of challenges under the Commerce Clause to California regulations for which waivers or authorizations have been issued are consistent with our recent brief in Owner-Operator Independent Drivers Association, Inc. v. EPA, D.C. Cir., Case No. 14-1192, which has been placed in the docket for this rulemaking.

OOIDA comment #5: OOIDA cites CARB's In-Use Diesel-Fueled Transport Refrigeration Units (TRUs) Regulation as another example of what it contends is a state regulation whose costs on interstate commerce far exceed any benefit yet demonstrated by CARB. OOIDA further contends that the EPA does not have the authority to approve a rule with what it views as an unconstitutional impact on interstate commerce.

EPA response to OOIDA comment #5: As previously explained, the Commerce Clause acts to limit certain types of state regulation that affect interstate commerce, but does not limit actions by federal agencies, such as the EPA. As also previously explained, the “dormant” Commerce Clause principles do not apply where Congress has established a process under which the EPA must waive preemption if certain conditions are met. On the other hand, the EPA recognizes that it must review SIPs and SIP revisions for compliance with CAA section 110(a)(2)(E), which provides in relevant part that the state must provide necessary assurances that, among other things, the state is not prohibited by any provision of federal or state law from carrying out the SIP. In this instance, no court has found CARB's TRUs Regulation to be in violation of the Commerce Clause or any other provision of federal law.

As noted above in the EPA response to OOIDA comment #3, the EPA has considered in detail the issue of the relevance of the “dormant” Commerce Clause to CARB's regulations that are subject to waivers or authorizations under section 209 in a recent brief filed in the D.C. Circuit Court of Appeals in Owner-Operator Independent Drivers Association, Inc. v. EPA, D.C. Cir., Case No. 14-1192, which is in the docket for this rulemaking.

III. Final Action

Under section 110(k)(3) of the CAA, and for the reasons given above, we are taking final action to approve a SIP revision submitted by CARB on August 14, 2015 that includes certain sections of title 13 and title 17 of the California Code of Regulations that establish standards and other requirements relating to the control of emissions from new on-road and new and in-use off-road vehicles and engines. Tables 1 and 2 above list the regulations and related test procedures and other specifications we are approving in this action.⁷ We are approving the SIP revision because the regulations (and related test procedures and other specifications) included therein fulfill all relevant CAA requirements. This final action incorporates by reference the regulations into the federally enforceable SIP for the State of California.

⁷ As discussed above in footnotes #1 and #2, we are deferring action on 13 CCR section 2449.2(f)(4).

IV. Incorporation by Reference

In this rule, the EPA is finalizing regulatory text that includes incorporation by reference. In accordance with requirements of 1 CFR 51.5, the EPA is finalizing the incorporation by reference of certain sections of title 13 and title 17 of the California Code of Regulations described in the amendments to 40 CFR part 52 set forth below. Therefore, these materials have been approved by the EPA for inclusion in the State implementation plan, have been incorporated by reference by the EPA into that plan, are fully federally enforceable under sections 110 and 113 of the CAA as of the effective date of the final rulemaking of EPA's approval, and will be incorporated by reference by the Director of the Federal Register in the next update to the SIP compilation.⁸ The EPA has made, and will continue to make, these materials generally available through www.regulations.gov and/or at the EPA Region IX Office (please contact the person identified in the FOR FURTHER INFORMATION CONTACT section of this preamble for more information).

⁸ 62 FR 27968 (May 22, 1997).

V. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, this action does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 15, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Nitrogen dioxide, Ozone, Particulate matter, Reporting and recordkeeping requirements, Volatile organic compounds.

Authority: 42 U.S.C. 7401 et seq.

Dated: June 1, 2016.
Alexis Strauss,
Acting Regional Administrator, Region IX.

Chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220a is amended as follows:

a. In paragraph (c), table 1 is amended:

i. By adding a table entry titled “Title 13 (Motor Vehicles), Division 3 (Air Resources Board), Chapter 1 (Motor Vehicle Pollution Control Devices), Article 1 (General Provisions)” after the entry for “6626”; and under it, adding entries for “1900(b)(11) through (b)(17)”, “1900(b)(9) and (b)(22)”, and “1900(b)(22)”;

ii. By adding entries for “1956.8(a)(2), (a)(5), (b), and (h)”, “1956.8(b), (c)(1)(B), (d), and (h)(2)(footnotes J and K)”, and “1956.8(a)(2)(A), (a)(6), and (b)” after the heading “Title 13 (Motor Vehicles), Division 3 (Air Resources Board), Chapter 1 (Motor Vehicle Pollution Control Devices), Article 2 (Approval of Motor Vehicle Pollution Control Divisions (New Vehicles))”;

iii. By adding entries for “1956.8(b), (c)(1)(B), (c)(3), (d), (h)(2), and (h)(5)”, “1956.8(b), (c)(1)(A)(3), (d), and (h)(5)”, and “1958 (a) (excluding (a)(1)), (b)(1), (b)(2), (f), (g), and (h)”, after the entry for “1956.8”;

iv. By adding entries for “1960.1(r)”, “1960.1(r)”, “1961, including Introduction, (a)(4), (a)(8), (a)(12), (a)(15); (b)(3)(B), (b)(3)(C), (b)(3)(D), (b)(3)(E); (d); and (e)”, and “1961(d)” after the entry for “1960.1”;

v. By adding entries for “1961, including Introduction, (a)(1), (a)(3), (a)(4), (a)(5), (a)(7), (a)(8)(B), (a)(14)(A); (b)(1)(A), (b)(1)(B)(1.)(c.), (b)(1)(B)(3.), (b)(1)(C)(1.), (b)(1)(D), (b)(3)(A), (b)(3)(B), (b)(3)(C), (b)(3)(E); (c)(1), (c)(2)(A), (c)(3)(A), (d)”, “1961, including Introduction, (a)(1), (b)(1)(A), (d)”, “1961.2”, “1961.2, including Introduction, (a)(1), (a)(2)(A), (a)(2)(D), (a)(7)(A), (a)(7)(A)(2.) (through equation 2), (A)(9), (b)(1)(A), (b)(1)(A)(2.), (b)(1)(D), (b)(4)(A), (c)(1)(B), (c)(3)(B), and (d)”; “1962.1”, “1962.1 (b)(2)(D)(1) and (2), (c)(3)(A), and (h)(1)”; “1962.2, excluding (g)(6)(C)”; “1962.2(c)(2)(B), (c)(3)(A), (c)(3)(A)(1.), (h)(1)”; “1962.3”; “1965”; “1965”; “1965”; “1971.1”; “1971.5”; “1976(c)”; “1976(b)(1), (c), (f)(3) and (f)(4)”; “1976(b)(1), (b)(1)(G)(3), (c)”; “1978(a)(1), (b)”; “1978(b)”; and “1978” after the entry for “1961”;

vi. By adding a table entry titled “Title 13 (Motor Vehicles), Division 3 (Air Resources Board), Chapter 1 (Motor Vehicle Pollution Control Devices), Article 6 (Emission Control Warranty System)” after the entry for “2027”; and under it, adding entries for “2037(g)” and “2038(c)(3)”;

vii. By adding a table entry titled “Title 13 (Motor Vehicles), Division 3 (Air Resources Board), Chapter 2 (Enforcement of Vehicle Emission Standards and Surveillance Testing), Article 1 (Assembly-Line Testing)” after the new entry “2038(c)(3)”; and under it, adding an entry for “2062”;

viii. By adding a table entry titled “Title 13 (Motor Vehicles), Division 3 (Air Resources Board), Chapter 2 (Enforcement of Vehicle Emission Standards and Surveillance Testing), Article 2.1 (Procedures for In-Use Vehicle Voluntary and Influenced Recalls)” after the new entry “2062”; and under it, adding entries for “2111(a)(1)”, “2111(a)(4)”, “2112(l)(12)”, “2112(l)(20), (l)(23)”, and “2112(b), (l)(9), (l)(18)”;

ix. By adding a table entry titled “Title 13 (Motor Vehicles), Division 3 (Air Resources Board), Chapter 2 (Enforcement of Vehicle Emission Standards and Surveillance Testing), Article 2.3 (In-Use Vehicle Enforcement Test Procedures)” after the new entry “2112(b), (l)(9), (l)(18)”; and under it, adding entries for “2139(h)”, “2139(a), (b), (c)(2)”, and “2140(b)”;

x. By adding a table entry titled “Title 13 (Motor Vehicles), Division 3 (Air Resources Board), Chapter 2 (Enforcement of Vehicle Emission Standards and Surveillance Testing), Article 2.4 (Procedures for Reporting Failures of Emission-Related Components)” after the new entry “2140(b)”; and under it, adding entries for “2145(b)(3)”, “2147(b)”, and “2147(b)(3)”;

xi. By adding a table entry titled “Title 13 (Motor Vehicles), Division 3 (Air Resources Board), Chapter 4.4 (Specifications for Fill Pipes and Openings of Motor Vehicle Fuel Tanks)” after the new entry “2147(b)(3)”; and under it, adding an entry for “2235”;

xii. By adding a table entry titled “Title 13 (Motor Vehicles), Division 3 (Air Resources Board), Chapter 5.1 (Standards for Fuels for Nonvehicular Sources)” after the entry for “2297”; and under it, adding an entry for “2299.3”;

xiii. By adding a table entry titled “Title 13 (Motor Vehicles), Division 3 (Air Resources Board), Chapter 9 (Off-Road Vehicles and Engines Pollution Control Devices), Article 1 (Small Off-Road Engines)” after the new entry “2299.3”; and under it, adding entries for “2401(a)(13), (36), (41), (51), (52)”, “2403(b)(2), (b)(3), (b)(4), (d), (e)(1)”, “2404(a)”; “2404(m)(1), (m)(2), (m)(3)”; “2405(b)(1), (b)(2), (h)(1), (h)(2)”; “2406(b)(1), (b)(2)”; “2408(b)(2), (d)(4), (f)(1), (f)(3), (f)(4), (f)(5), (g)(1)(E), (i)(3), (i)(7)”; “2408.1”; and “2409(a), (b)(1), (b)(2), (b)(5), (b)(6), (d)(3)”;

xiv. By adding a table entry titled “Title 13 (Motor Vehicles), Division 3 (Air Resources Board), Chapter 9 (Off-Road Vehicles and Engines Pollution Control Devices), Article 3 (Off-Highway Recreational Vehicles and Engines)” after the new entry “2409(a), (b)(1), (b)(2), (b)(5), (b)(6), (d)(3)”; and under it, adding entries for “2411(a)(1), (a)(13), (a)(17), (a)(18), (a)(19)”; “2412”; and “2413”;

xv. By adding a table entry titled “Title 13 (Motor Vehicles), Division 3 (Air Resources Board), Chapter 9 (Off-Road Vehicles and Engines Pollution Control Devices), Article 4 (Off-Road Compression-Ignition Engines and Equipment)” after the new entry “2413”; and under it, adding entries for “2420”, “2421”, “2423”, “2424”, “2424(a)”, “2425”, “2425(e)”, “2425.1”, “2426”, and “2427”;

xvi. By adding a table entry titled “Title 13 (Motor Vehicles), Division 3 (Air Resources Board), Chapter 9 (Off-Road Vehicles and Engines Pollution Control Devices), Article 4.5 (Off-Road Large Spark-Ignition Engines)” after the new entry “2427”; and under it, adding entries for “2430”, “2431(a), (a)(19), (a)(28)”, “2433”, “2434(c)”, and “2438(e)(7)”;

xvii. By adding a table entry titled “Title 13 (Motor Vehicles), Division 3 (Air Resources Board), Chapter 9 (Off-Road Vehicles and Engines Pollution Control Devices), Article 4.7 (Spark-Ignition Marine Engines)” after the new entry “2438(e)(7)”; and under it, adding entries for “2440(a)(3)”, “2442(a)(1), (a)(2), (b), (c), (d), (e), (f), (g), (h)”, “2443.1(b)(1), (c)(2)(B), (c)(4)(B), (c)(4)(D), (c)(4)(G), (c)(4)(H), (d)(4)(B)”, “2443.2(b)(1), (c)(1), (c)(2), (e)”, “2444.1(a), (b)(3)(B), (b)(3)(E), (b)(3)(G), (e)(4)(A)(1. through 10.), (e)(4)(B), (e)(4)(C)(1., 2., and 3.)”, “2444.2”, “2445.1(a), (c)(1), (c)(2), (c)(3), (e)(10), (e)(11), (g)(2)(A)”, “2445.2(a)”, “2446(a), (b)(4)(B), (c)(1)(A), (c)(1)(B), (c)(2)(A), (c)(3)(D), (c)(3)(E), (d)(3)(D), (d)(5), (e)”, and “2447”;

xviii. By adding a table entry titled “Title 13 (Motor Vehicles), Division 3 (Air Resources Board), Chapter 9 (Off-Road Vehicles and Engines Pollution Control Devices), Article 4.8 (In-Use Off-Road Diesel-Fueled Fleets)” after the new entry “2447”; and under it, adding entries for “2449, excluding (d)(2)”, “2449.1”, and “2449.2, excluding (f)(4)”;

xix. By adding a table entry titled “Title 13 (Motor Vehicles), Division 3 (Air Resources Board), Chapter 9 (Off-Road Vehicles and Engines Pollution Control Devices), Article 5 (Portable Engine and Equipment Registration)” after the new entry “2449.2, excluding (f)(4)”; and under it, adding entries for “2451”, “2452”, “2453”, “2455, excluding (a) and (b)”, “2456, excluding (a), (d)(3), (d)(5), and (d)(6)”, “2458”, “2459”, “2460”, “2461”, and “2462”;

xx. By adding a table entry titled “Title 13 (Motor Vehicles), Division 3 (Air Resources Board), Chapter 9 (Off-Road Vehicles and Engines Pollution Control Devices), Article 7 (Certification Procedures for Aftermarket Parts for Off-Road Vehicles, Engines, Equipment)” after the new entry “2462”; and under it, adding an entry for “2474(e), (i)(1)”;

xxi. By adding a table entry titled “Title 13 (Motor Vehicles), Division 3 (Air Resources Board), Chapter 9 (Off-Road Vehicles and Engines Pollution Control Devices), Article 8 (Off-Road Airborne Toxic Control Measures)” after the new entry “2474(e), (i)(1)”; and under it, adding entries for “2477”, “2479, excluding (e)(2) and (e)(4)”, and “2479(a), (b), (c), (d), (e)(1), (e)(3), (e)(5), (f)(1), (f)(2), (f)(3), (f)(6), (h)(1), (i), (j)(1), (j)(2), (j)(3), (k), (l), (m), (n), (o), (p), (q), (r)”;

xxii. By adding a table entry titled “Title 13 (Motor Vehicles), Division 3 (Air Resources Board), Chapter 10 (Mobile Source Operational Controls), Article 1 (Motor Vehicles)” after the new entry “2479(a), (b), (c), (d), (e)(1), (e)(3), (e)(5), (f)(1), (f)(2), (f)(3), (f)(6), (h)(1), (i), (j)(1), (j)(2), (j)(3), (k), (l), (m), (n), (o), (p), (q), (r)”; and under it, adding an entry for “2485, excluding (c)(1)(A), (c)(1)(B), (c)(3)(B)”;

xxiii. By adding a table entry titled “Title 13 (Motor Vehicles), Division 3 (Air Resources Board), Chapter 15 (Additional Off-Road Vehicles and Engines Pollution Control Requirements), Article 2 (Large Spark Ignition (LSI) Engines Fleet Requirements)” after the entry for “2701”; and under it, adding entries for “2775”, “2775.1”, and “2775.2”;

xxiv. By adding entries for “93116”, “93116.1”, “93116.2”, “93116.3, excluding (a)”, “93116.4”, “93116.5”, “93118.3”, and “93118.5, excluding (e)(1)” after the entry for “93114”; and b. Paragraph (c), table 2 is amended by adding entries for “California Exhaust Emission Standards and Test Procedures for 2001 and Subsequent Model Passenger Cars, Light-Duty Trucks and Medium-Duty Vehicles, as last amended September 5, 2003”, “California Motor Vehicle Emission Control and Smog Index Label Specifications for 1978 through 2003 Model Year Motorcycles, Light-, Medium- and Heavy-Duty Engines and Vehicles,” as last amended September 5, 2003”, “California Smog Index Label Specifications for 2004 and Subsequent Model Passenger Cars and Light-Duty Trucks,” adopted September 5, 2003”, “California Refueling Emission Standards and Test Procedures for 2001 and Subsequent Model Motor Vehicles, as last amended September 5, 2003”, “California Evaporative Emission Standards and Test Procedures for 2001 and Subsequent Model Motor Vehicles, as amended June 22, 2006”, “California Refueling Emission Standards and Test Procedures for 2001 and Subsequent Model Motor Vehicles, as last amended June 22, 2006”, “California Exhaust Emission Standards Test Procedures for 2001 and Subsequent Model Passenger Cars, Light-Duty Trucks, and Medium-Duty Vehicles, as last amended June 22, 2006”, “California Exhaust Emission Standards and Test Procedures for 2004 and Subsequent Model Heavy-Duty Diesel Engines and Vehicles, as last amended March 22, 2012”, “California Exhaust Emission Standards and Test Procedures for 2004 and Subsequent Model Heavy-Duty Otto-Cycle Engines, as last amended March 22, 2012”, “California Non-Methane Organic Gas Test Procedures, as last amended March 22, 2012”, “California 2001 through 2014 Model Criteria Pollutant Exhaust Emission Standards and Test Procedures and 2009 through 2016 Model Greenhouse Gas Exhaust Emission Standards and Test Procedures for Passenger Cars, Light-Duty Trucks, and Medium-Duty Vehicles, as last amended March 22, 2012, excluding GHG-related provisions”, “California Environmental Performance Label Specifications for 2009 and Subsequent Model Year Passenger Cars, Light-Duty Trucks, and Medium-Duty Passenger Vehicles, as last amended March 22, 2012”, “California Evaporative Emission Standards and Test Procedures for 2001 and Subsequent Model Motor Vehicles, as last amended March 22, 2012”, “California Refueling Emission Standards and Test Procedures for 2001 and Subsequent Model Motor Vehicles, as last amended March 22, 2012”, “Specifications for Fill Pipes and Openings of 1977 through 2014 Model Motor Vehicle Fuel Tanks, as last amended March 22, 2012”, “Specifications for Fill Pipes and Openings of 2015 and Subsequent Model Motor Vehicle Fuel Tanks, adopted March 22, 2012”, “California 2015 and Subsequent Model Criteria Pollutant Exhaust Emission Standards and Test Procedures and 2017 and Subsequent Model Greenhouse Gas Exhaust Emission Standards and Test Procedures for Passenger Cars, Light-Duty Trucks, and Medium-Duty Vehicles, adopted March 22, 2012, excluding GHG-related provisions”, “California Exhaust Emission Standards and Test Procedures for 2009 through 2017 Model Zero-Emission Vehicles and Hybrid Electric Vehicles, in the Passenger Car, Light-Duty Truck, and Medium-Duty Vehicle Classes, as last amended March 22, 2012, excluding GHG-related provisions”, “California Exhaust Emission Standards and Test Procedures for 2018 and Subsequent Model Zero-Emission Vehicles and Hybrid Electric Vehicles, in the Passenger Car, Light-Duty Truck, and Medium-Duty Vehicle Classes, adopted March 22, 2012, excluding GHG-related provisions”, “California 2015 and Subsequent Model Criteria Pollutant Exhaust Emission Standards and Test Procedures and 2017 and Subsequent Model Greenhouse Gas Exhaust Emission Standards and Test Procedures for Passenger Cars, Light-Duty Trucks, and Medium-Duty Vehicles, as last amended December 6, 2012, excluding GHG-related provisions”, “California 2001 through 2014 Model Criteria Pollutant Exhaust Emission Standards and Test Procedures and 2009 through 2016 Model Greenhouse Gas Exhaust Emission standards and Test Procedures for Passenger Cars, Light-Duty Trucks, and Medium-Duty Vehicles, as last amended December 6, 2012, excluding GHG-related provisions”, “California Non-Methane Organic Gas Test Procedures, as last amended December 6, 2012”, “California Evaporative Emission Standards and Test Procedures for 2001 and Subsequent Model Motor Vehicles, as last amended December 6, 2012”, “California Exhaust Emission Standards and Test Procedures for 2004 and Subsequent Model Heavy-Duty Otto-Cycle Engines, as last amended December 6, 2012”, “California Exhaust Emission Standards and Test Procedures for 2004 and Subsequent Model Heavy-Duty Diesel Engines and Vehicles, as last amended December 6, 2012”, “California Exhaust Emission Standards and Test Procedures for 2009 through 2017 Model Zero-Emission Vehicles and Hybrid Electric Vehicles, in the Passenger Car, Light-Duty Truck, and Medium-Duty Vehicle Classes, as last amended December 6, 2012”, “California Exhaust Emission Standards and Test Procedures for 2018 and Subsequent Model Zero-Emission Vehicles and Hybrid Vehicles, in the Passenger Car, Light-Duty Truck, and Medium-Duty Vehicle Classes, adopted December 6, 2012, excluding GHG-related provisions”, “California Exhaust Emission Standards and Test Procedures for 2004 and Subsequent Model Heavy-Duty Otto-cycle Engines, as last amended December 12, 2002”, “California Exhaust Emission Standards and Test Procedures for 1985 and Subsequent Model Heavy-Duty Diesel Engines and Vehicles, as last amended October 25, 2001”, “California Motor Vehicle Emission Control and Smog Index Label Specifications, as last amended October 22, 1999”, “California Exhaust Emission Standards and Test Procedures for 2004 and Subsequent Model Heavy-Duty Diesel Engines, as last amended September 1, 2006”, “California Exhaust Emission Standards and Test Procedures for New 2001 through 2006 Off-Road Large Spark-Ignition Engines, Parts I and II, adopted September 1, 1999 and as last amended March 2, 2007”, “California Exhaust and Evaporative Emission Standards and Test Procedures for 2007 through 2009 Off-Road Large Spark-Ignition Engines, (2007-2009 Test Procedure 1048), adopted March 2, 2007”, “California Exhaust and Evaporative Emission Standards and Test Procedures for New 2010 and Later Off-Road Large Spark-Ignition Engines, (2010 and Later Test Procedure 1048), adopted March 2, 2007”, “California Exhaust and Evaporative Emission Standards and Test Procedures for New 2007 and Later Off-Road Large Spark-Ignition Engines (Test Procedures 1065 and 1068), adopted March 2, 2007”, “California Exhaust Emission Standards and Test Procedures for 2005 and Later Small Off-Road Engines, as last amended February 24, 2010”, “California Exhaust Emission Standards and Test Procedures for New 2000 and Later Tier 1, Tier 2, and Tier 3 Off-Road Compression-Ignition Engines, Part I-B, adopted January 28, 2000 and as last amended October 20, 2005”, “California Exhaust Emission Standards and Test Procedures for New 1996 and Later Tier 1, Tier 2, and Tier 3 Off-Road Compression-Ignition Engines, Part II, adopted May 12, 1993 and as last amended October 20, 2005”, “California Exhaust Emission Standards and Test Procedures for New 2008 and Later Tier 4 Off-Road Compression-Ignition Engines, Part I-C, adopted October 20, 2005”, “California Exhaust Emission Standards and Test Procedures for 2001 Model Year and Later Spark-Ignition Marine Engines, as last amended June 5, 2009”, “Procedures for Exemption of Add-On and Modified Parts for Off-Road Categories, as last amended June 5, 2009”, and “California Exhaust Emissions Standards and Test Procedures for 1997 and Later Off-Highway Recreational Vehicles, and Engines, as last amended August 15, 2007” after the entry for “Procedures for Using the California Model for California Reformulated Gasoline Blendstocks for Oxygenate Blending (CARBOB)”.

The additions read as follows:

§ 52.220a Identification of plan—partial.

* * * * *

(c) * * *

Table 1—EPA-Approved Statutes and State Regulations ¹
State citation | Title/subject | State effective date | EPA approval date | Additional explanation
* * * * * * *
Title 13 (Motor Vehicles), Division 3 (Air Resources Board), Chapter 1 (Motor Vehicle Pollution Control Devices), Article 1 (General Provisions)
1900(b)(11) through (b)(17) | Definitions | 11/22/1999 | [Insert Federal Register citation], 6/16/2016 | Definitions of “motorcycle engine,” “passenger car,” “recall,” “replacement part,” “subgroup,” and “reactivity adjustment factor.”
1900(b)(9) and (b)(22) | Definitions | 8/7/2012 | [Insert Federal Register citation], 6/16/2016 | Definitions of “intermediate volume manufacturer” and “small volume manufacturer.”
1900(b)(22) | Definitions | 12/31/2012 | [Insert Federal Register citation], 6/16/2016 | Definition of “small volume manufacturer.”
* * * * * * *
1956.8(a)(2), (a)(5), (b), and (h) | Exhaust Emissions Standards and Test Procedures—1985 and Subsequent Model Heavy-Duty Engines and Vehicles | 11/17/2002 | [Insert Federal Register citation], 6/16/2016 | Exhaust emissions standards for new 2004 and subsequent model heavy-duty diesel engines, heavy-duty natural gas-fueled and LPG-fueled engines derived from diesel-cycle engines; crankcase emissions requirements; test procedures.
1956.8(b), (c)(1)(B), (d), and (h)(2) (footnotes J and K) | Exhaust Emissions Standards and Test Procedures—1985 and Subsequent Model Heavy-Duty Engines and Vehicles | 12/4/2003 | [Insert Federal Register citation], 6/16/2016 | Test procedures; exhaust emissions standards for new 2005 and subsequent model HD OC engines.
1956.8(a)(2)(A), (a)(6), and (b) | Exhaust Emissions Standards and Test Procedures—1985 and Subsequent Model Heavy-Duty Engines and Vehicles | 11/15/2006 | [Insert Federal Register citation], 6/16/2016 | Heavy-duty diesel engine idling requirements; test procedures.
* * * * * * *
1956.8(b), (c)(1)(B), (c)(3), (d), (h)(2), and (h)(5) | Exhaust Emissions Standards and Test Procedures—1985 and Subsequent Model Heavy-Duty Engines and Vehicles | 8/7/2012 | [Insert Federal Register citation], 6/16/2016 | Test procedures; exhaust emissions standard for new 2005 and subsequent model HD OC engines; 1992 and subsequent model diesel engines used in MD low-emissions vehicles.
1956.8(b), (c)(1)(A)(3), (d), and (h)(5) | Exhaust Emissions Standards and Test Procedures—1985 and Subsequent Model Heavy-Duty Engines and Vehicles | 12/31/2012 | [Insert Federal Register citation], 6/16/2016 | Test procedures; exhaust emissions standard for new 2005 and subsequent model HD OC engines; 1992 and subsequent model diesel engines used in MD low-emissions vehicles.
1958(a) (excluding (a)(1)), (b)(1), (b)(2), (f), (g), and (h) | Exhaust Emissions Standards and Test Procedures—Motorcycles and Motorcycle Engines Manufactured on or after January 1, 1978 | 11/22/1999 | [Insert Federal Register citation], 6/16/2016 | Exhaust emissions standards for HC + NOX and for CO; different standards established for different sizes and for different models years; provisions for small volume manufacturers and for early-compliance credits; sunset review. Excluded subsection relates to an exclusion for motorcycles or motorcycle engines where the engine displacement is less than 50 cubic centimeters.
* * * * * * *
1960.1(r) | Exhaust Emission Standards and Test Procedures—1981 through 2006 Model Passenger Cars, Light Duty Trucks, and Medium Duty Vehicles | 8/7/2012 | [Insert Federal Register citation], 6/16/2016 | 4,000-mile Supplement FTP Emission Standards for LEV, ULEV, and SULEV in the PC, LDT, and MDVs.
1960.1(r) | Exhaust Emission Standards and Test Procedures—1981 through 2006 Model Passenger Cars, Light Duty Trucks, and Medium Duty Vehicles | 12/31/2012 | [Insert Federal Register citation], 6/16/2016 | 4,000-mile Supplement FTP Emission Standards for LEV, ULEV, and SULEV in the PC, LDT, and MDVs.
1961, including Introduction, (a)(4), (a)(8), (a)(12), (a)(15); (b)(3)(B), (b)(3)(C), (b)(3)(D), (b)(3)(E); (d); and (e) | Exhaust Emission Standards and Test Procedures—2004 and Subsequent Model Passenger Cars, Light-Duty Trucks, and Medium-Duty Vehicles | 12/4/2003 | [Insert Federal Register citation], 6/16/2016 | 50 °F Exhaust emissions standards, requirements for vehicles certified to the optional 150,000 mile standards, NMOG credit provisions, fuel-fired heater provisions, phase-in requirements for MDV manufacturers; test procedures.
1961(d) | Exhaust Emission Standards and Test Procedures—2004 and Subsequent Model Passenger Cars, Light-Duty Trucks, and Medium-Duty Vehicles | 2/17/2007 | [Insert Federal Register citation], 6/16/2016 | Test procedures.
* * * * * * *
1961, including Introduction, (a)(1), (a)(3), (a)(4), (a)(5), (a)(7), (a)(8)(B), (a)(14)(A); (b)(1)(A), (b)(1)(B)(1.)(c.), (b)(1)(B)(3.), (b)(1)(C)(1.), (b)(1)(D), (b)(3)(A), (b)(3)(B), (b)(3)(C), (b)(3)(E); (c)(1), (c)(2)(A), (c)(3)(A), (d) | Exhaust Emission Standards and Test Procedures—2004 through 2019 Model Passenger Cars, Light-Duty Trucks, and Medium-Duty Vehicles | 8/7/2012 | [Insert Federal Register citation], 6/16/2016 | “LEV III” exhaust emission standards for 2004 through 2019 model PC, LDT, and MDV; test procedures.
1961, including Introduction, (a)(1), (b)(1)(A), (d) | Exhaust Emission Standards and Test Procedures—2004 through 2019 Model Passenger Cars, Light-Duty Trucks, and Medium-Duty Vehicles | 12/31/2012 | [Insert Federal Register citation], 6/16/2016 | “LEV III” exhaust emission standards for 2004 through 2019 model PC, LDT, and MDV; test procedures.
1961.2 | Exhaust Emission Standards and Test Procedures—2015 and Subsequent Model Passenger Cars, Light-Duty Trucks, and Medium-Duty Vehicles | 8/7/2012 | [Insert Federal Register citation], 6/16/2016 | “LEV III” exhaust emission standards for 2015 and subsequent model year PC, LDT, and MDV.
1961.2, including Introduction, (a)(1), (a)(2)(A), (a)(2)(D), (a)(7)(A), (a)(7)(A)(2.) (through equation 2), (A)(9), (b)(1)(A), (b)(1)(A)(2.), (b)(1)(D), (b)(4)(A), (c)(1)(B), (c)(3)(B), and (d) | Exhaust Emission Standards and Test Procedures—2015 and Subsequent Model Passenger Cars, Light-Duty Trucks, and Medium-Duty Vehicles | 12/31/2012 | [Insert Federal Register citation], 6/16/2016 | “LEV III” exhaust emission standards for 2015 and subsequent model year PC, LDT, and MDV.
1962.1 | Zero-Emission Vehicle Standards for 2009 through 2017 Model Year Passenger Cars, Light-Duty Trucks, and Medium-Duty Vehicles | 8/7/2012 | [Insert Federal Register citation], 6/16/2016 | ZEV standards, percentage ZEV requirements, PZEV provisions, qualification for ZEV multipliers and credits, generation and use of credits, calculation of penalties, test procedures.
1962.1(b)(2)(D)(1) and (2), (c)(3)(A), and (h)(1) | Zero-Emission Vehicle Standards for 2009 through 2017 Model Year Passenger Cars, Light-Duty Trucks, and Medium-Duty Vehicles | 12/31/2012 | [Insert Federal Register citation], 6/16/2016 | ZEV requirements for large volume manufacturers in model years 2012 through 2017 and PZEV allowances; test procedures, ZEV-specific definitions.
1962.2, excluding (g)(6)(C) | Zero-Emission Vehicle Standards for 2018 and Subsequent Model Year Passenger Cars, Light-Duty Trucks, and Medium-Duty Vehicles | 8/7/2012 | [Insert Federal Register citation], 6/16/2016 | ZEV standards, percentage ZEV requirements, TZEV provisions, qualification of ZEV credits, generation and use of credits, test procedures, ZEV-specific definitions; excluded provision relates to GHG-ZEV over compliance credits.
1962.2(c)(2)(B), (c)(3)(A), (c)(3)(A)(1.), (h)(1) | Zero-Emission Vehicle Standards for 2018 and Subsequent Model Year Passenger Cars, Light-Duty Trucks, and Medium-Duty Vehicles | 12/31/2012 | [Insert Federal Register citation], 6/16/2016 | Certain ZEV requirements in model years 2018 and subsequent model years including evaporative emission standards for TZEVs, TZEV allowances, and test procedures.
1962.3 | Electric Vehicle Charging Requirements | 8/7/2012 | [Insert Federal Register citation], 6/16/2016 | Applicability, definitions, requirements, alternatives.
1965 | Emission Control and Smog Index Labels—1979 and Subsequent Model-Year Motor Vehicles | 11/22/1999 | [Insert Federal Register citation], 6/16/2016 | Emission control label requirements.
1965 | Emission Control and Smog Index Labels—1979 and Subsequent Model-Year Motor Vehicles | 12/04/2003 | [Insert Federal Register citation], 6/16/2016 | Emission control label requirements.
1965 | Emission Control, Smog Index, and Environmental Performance Labels—1979 and Subsequent Model-Year Motor Vehicles | 8/7/2012 | [Insert Federal Register citation], 6/16/2016 | Emission control label requirements.
1971.1 | On-Board Diagnostic System Requirements—2010 and Subsequent Model-Year Heavy-Duty Engines | 6/17/2010 | [Insert Federal Register citation], 6/16/2016 | Establishes emission standards and other requirements for OBD systems that monitor emission systems in-use for the actual life of the engine and detect malfunctions of the monitored emissions systems, illuminating a malfunction indicator light to notify the vehicle operator of detected malfunctions, and storing fault codes identifying the detected malfunctions.
1971.5 | Enforcement of Malfunction and Diagnostic System Requirements for 2010 and Subsequent Model-Year Heavy-Duty Engines | 6/17/2010 | [Insert Federal Register citation], 6/16/2016 | Establishes enforcement protocol for use by CARB to assure the engines certified for sale in California are equipped with OBD systems that properly function and meet the applicable regulatory requirements.
1976(c) | Standards and Test Procedures for Motor Vehicle Fuel Evaporative Emissions | 2/17/2007 | [Insert Federal Register citation], 6/16/2016 | Test procedures.
1976(b)(1), (c), (f)(3) and (f)(4) | Standards and Test Procedures for Motor Vehicle Fuel Evaporative Emissions | 8/7/2012 | [Insert Federal Register citation], 6/16/2016 | Fuel evaporative emission standards; test procedures; definitions.
1976(b)(1), (b)(1)(G)(3), (c) | Standards and Test Procedures for Motor Vehicle Fuel Evaporative Emissions | 12/31/2012 | [Insert Federal Register citation], 6/16/2016 | Fuel evaporative emission standards; test procedures; definitions.
1978(a)(1), (b) | Standards and Test Procedures for Vehicle Refueling Emissions | 12/4/2003 | [Insert Federal Register citation], 6/16/2016 | Standards for vehicle refueling for 1998 and subsequent model passenger cars, LDT, and MDV less than 8,501 pounds.
1978(b) | Standards and Test Procedures for Vehicle Refueling Emissions | 2/17/2007 | [Insert Federal Register citation], 6/16/2016 | Test procedures.
1978 | Standards and Test Procedures for Vehicle Refueling Emissions | 8/7/2012 | [Insert Federal Register citation], 6/16/2016 | Refueling emissions standards for 1998 and subsequent model gasoline-fueled, alcohol-fueled, diesel-fueled, LPG-fueled, fuel-flexible and hybrid electric PC, LDT, and MDV up to 8,501 pounds, and similarly-fueled 2015 and subsequent year MDV from 8,501 pounds to 14,000 pounds.
* * * * * * *
Title 13 (Motor Vehicles), Division 3 (Air Resources Board), Chapter 1 (Motor Vehicle Pollution Control Devices), Article 6 (Emission Control Warranty System)
2037(g) | Defects Warranty Requirements for 1990 and Subsequent Model Passenger Cars, Light-Duty Trucks, Medium-Duty Vehicles, and Motor Vehicle Engines Used in Such Vehicles | 8/7/2012 | [Insert Federal Register citation], 6/16/2016 | Reporting requirements.
2038(c)(3) | Performance Warranty Requirements for 1990 and Subsequent Model Passenger Cars, Light-Duty Trucks, and Medium-Duty Vehicles, and Motor Vehicle Engines Used in Such Vehicles | 8/7/2012 | [Insert Federal Register citation], 6/16/2016 | Reporting requirements.
Title 13 (Motor Vehicles), Division 3 (Air Resources Board), Chapter 2 (Enforcement of Vehicle Emission Standards and Surveillance Testing), Article 1 (Assembly-Line Testing)
2062 | Assembly-Line Procedures—1998 and Subsequent Model Years | 8/7/2012 | [Insert Federal Register citation], 6/16/2016 | Assembly-line test procedures.
Title 13 (Motor Vehicles), Division 3 (Air Resources Board), Chapter 2 (Enforcement of Vehicle Emission Standards and Surveillance Testing), Article 2.1 (Procedures for In-Use Vehicle Voluntary and Influenced Recalls)
2111(a)(1) | Applicability | 8/15/2007 | [Insert Federal Register citation], 6/16/2016 | Procedures apply to California-certified 1982 and subsequent model-year passenger cars, light-duty trucks, medium-duty vehicles, heavy-duty vehicles, motorcycles, and 1997 and subsequent model-year off-road motorcycles and all-terrain vehicles, and 2007 and subsequent model-year off-road sport vehicles, off-road utility vehicles, and sand cars.
2111(a)(4) | Applicability | 8/16/2009 | [Insert Federal Register citation], 6/16/2016 | Procedures apply to certain California-certified 2008 model year spark-ignition sterndrive/inboard marine engines with maximum rated power less than or equal to 373 kilowatts, and all California-certified 2009 and subsequent model-year spark-ignition sterndrive/inboard marine engines.
2112(l)(12) | Definitions | 8/15/2007 | [Insert Federal Register citation], 6/16/2016 | Definition of “useful life” for 1997 and subsequent model year off-road motorcycles, all-terrain vehicles, and for 2007 and subsequent model year off-road sport vehicles, off-road utility vehicles, sand cars, and engines used in such vehicles.
2112(l)(20), (l)(23) | Definitions | 8/16/2009 | [Insert Federal Register citation], 6/16/2016 | Definition of “useful life” for certain types of vehicles.
2112(b), (l)(9), (l)(18) | Definitions | 8/7/2012 | [Insert Federal Register citation], 6/16/2016 | Definition of “correlation factor,” and definition of “useful life” for certain types of vehicles.
Title 13 (Motor Vehicles), Division 3 (Air Resources Board), Chapter 2 (Enforcement of Vehicle Emission Standards and Surveillance Testing), Article 2.3 (In-Use Vehicle Enforcement Test Procedures)
2139(h) | Testing | 8/16/2009 | [Insert Federal Register citation], 6/16/2016 | Specifies in-use compliance tests for spark-ignition sterndrive/inboard marine engines.
2139(a), (b), (c)(2) | Testing | 8/7/2012 | [Insert Federal Register citation], 6/16/2016 | Specifies in-use vehicle emission tests by CARB after vehicles have been accepted and restorative maintenance, if any, has been performed.
2140(b) | Notification and Use of Test Results | 8/7/2012 | [Insert Federal Register citation], 6/16/2016 | Notification and use requirements once the in-use emission tests have been completed.
Title 13 (Motor Vehicles), Division 3 (Air Resources Board), Chapter 2 (Enforcement of Vehicle Emission Standards and Surveillance Testing), Article 2.4 (Procedures for Reporting Failures of Emission-Related Components)
2145(b)(3) | Field Information Report | 8/7/2012 | [Insert Federal Register citation], 6/16/2016 | Reporting requirements.
2147(b) | Demonstration of Compliance with Emissions Standards | 8/16/2009 | [Insert Federal Register citation], 6/16/2016 | Applies the requirements to sterndrive/inboard marine engines.
2147(b)(3) | Demonstration of Compliance with Emissions Standards | 8/7/2012 | [Insert Federal Register citation], 6/16/2016 | Testing requirements and selection of deterioration factors.
Title 13 (Motor Vehicles), Division 3 (Air Resources Board), Chapter 4.4 (Specifications for Fill Pipes and Openings of Motor Vehicle Fuel Tanks)
2235 | Requirements | 8/7/2012 | [Insert Federal Register citation], 6/16/2016 | Requirements for 1977 and subsequent model gasoline-fueled motor vehicles with respect to fill pipes and openings.
* * * * * * *
Title 13 (Motor Vehicles), Division 3 (Air Resources Board), Chapter 5.1 (Standards for Fuels for Nonvehicular Sources)
2299.3 | Airborne Toxic Control Measure for Auxiliary Diesel Engines Operated on Ocean-Going Vessels At-Berth in a California Port | 1/2/2009 | [Insert Federal Register citation], 6/16/2016 | Requires that any person who owns, operates, container vessel, passenger vessel, or refrigerated cargo vessel that visits a California port comply with section 93118.3 relating to the operation of auxiliary diesel engines on OGV at-berth in a California port. Also applies to any person who owns or operates a port or terminal located at a California port where container, passenger or refrigerated cargo vessels visit.
Title 13 (Motor Vehicles), Division 3 (Air Resources Board), Chapter 9 (Off-Road Vehicles and Engines Pollution Control Devices), Article 1 (Small Off-Road Engines)
2401(a)(13), (36), (41) , (51), (52) | Definitions | 5/5/2010 | [Insert Federal Register citation], 6/16/2016 | Definitions for “eight-hour workday,” “professional level,” “standard battery package,” “zero-emission equipment credits,” and “zero-emission equipment engine family.”
2403(b)(2), (b)(3), (b)(4), (d), (e)(1) | Exhaust Emission Standards and Test Procedures—Small Off-Road Engines | 5/5/2010 | [Insert Federal Register citation], 6/16/2016 | Low-emitting blue sky series engine requirements, evaporative emission requirements, test procedures.
2404(a) | Emission Control Labels and Consumer Information—1995 and Later Small Off-Road Engines | 11/15/2006 | [Insert Federal Register citation], 6/16/2016 | The requirements in section 2404 recognize the certain emission-critical or emission-related parts must be properly identified and maintained in order for engines to meet the applicable emissions standards and that information regarding engines' emissions levels may influence consumer choice.
2404(m)(1), (m)(2), (m)(3) | Emission Control Labels and Consumer Information—1995 and Later Small Off-Road Engines | 5/5/2010 | [Insert Federal Register citation], 6/16/2016 | Zero-emission equipment label content and placement requirements.
2405(b)(1), (b)(2), (h)(1), (h)(2) | Defects Warranty Requirements for 1995 and Later Small Off-Road Engines | 5/5/2010 | [Insert Federal Register citation], 6/16/2016 | Zero-emission equipment warranty requirements.
2406(b)(1), (b)(2) | Emission Control System Warranty Statement | 5/5/2010 | [Insert Federal Register citation], 6/16/2016 | Warranty contact requirement.
2408(b)(2), (d)(4), (f)(1), (f)(3), (f)(4), (f)(5), (g)(1)(E), (i)(3), (i)(7) | Emission Reduction Credits—Certification Averaging, Banking, and Trading Provisions | 5/5/2010 | [Insert Federal Register citation], 6/16/2016 | Limits on use of certification emission credits, certain reporting requirements.
2408.1 | Emission Reduction Credits—Zero-Emission Equipment Credits Averaging, Banking, and Trading Provisions | 5/5/2010 | [Insert Federal Register citation], 6/16/2016 | Applicability; general provisions; averaging, banking, and trading provisions; credit calculation and compliance provisions; use of zero-emission equipment credit; recordkeeping and reporting.
2409(a), (b)(1), (b)(2), (b)(5), (b)(6), (d)(3) | Emission Reduction Credits—Production Credit Program for New Engines | 5/5/2010 | [Insert Federal Register citation], 6/16/2016 | Applicability; general provisions; certain banking provisions.
Title 13 (Motor Vehicles), Division 3 (Air Resources Board), Chapter 9 (Off-Road Vehicles and Engines Pollution Control Devices), Article 3 (Off-Highway Recreational Vehicles and Engines)
2411(a)(1), (a)(13), (a)(17), (a)(18), (a)(19) | Definitions | 8/15/2007 | [Insert Federal Register citation], 6/16/2016 | Definitions for “all-terrain vehicle,” off-highway recreational vehicle engines,” “off-road sport vehicle,” “off-road utility vehicle,” “sand car.”
2412 | Emission Standards and Test Procedures—New Off-Highway Recreational Vehicles and Engines | 8/15/2007 | [Insert Federal Register citation], 6/16/2016 | Exhaust and evaporative emissions standards for off-highway recreational vehicles and engines used in such vehicles produced on or after January 1, 1997 that are sold, leased, used, or introduced into commerce in California; test procedures.
2413 | Emission Control Labels—New Off-Highway Recreational Vehicles | 8/15/2007 | [Insert Federal Register citation], 6/16/2016 | Provisions related to applicability, and label content and location.
Title 13 (Motor Vehicles), Division 3 (Air Resources Board), Chapter 9 (Off-Road Vehicles and Engines Pollution Control Devices), Article 4 (Off-Road Compression-Ignition Engines and Equipment)
2420 | Applicability | 1/6/2006 | [Insert Federal Register citation], 6/16/2016 | Applies to new heavy-duty off-road CI engines produced on or after January 1, 1996 and all other new 2000 model year and later off-road CI engines, except those covered by the preemption provisions in CAA section 209(e)(1). Certification required for new engines subject to 13 CCR chapter 9, article 4.
2421 | Definitions | 1/6/2006 | [Insert Federal Register citation], 6/16/2016 | Defined terms in addition to hose in 13 CCR § 1900(b).
2423 | Exhaust Emission Standards and Test Procedures—Off-Road Compression-Ignition Engines | 1/6/2006 | [Insert Federal Register citation], 6/16/2016 | Exhaust emissions standards (tiers 1, 2, 3 and 4), upper limits for family emission limits (tiers 1, 2, 3 and 4), low-emitting blue sky series engine requirements, crankcase emissions provisions, early certification provisions, prohibition on defeat devices, test procedures, recordkeeping and compliance calculations, economic hardship provisions, allowance for production of engines, labeling requirements,
2424 | Emission Control Labels—1996 and Later Off-Road Compression-Ignition Engines | 1/6/2006 | [Insert Federal Register citation], 6/16/2016 | Requirements on manufacturers to affix a label on each production engine (or equipment) to provide the engine or equipment owner and service mechanic with information necessary for the proper maintenance of these parts in customer use.
2424(a) | Emission Control Labels—1996 and Later Off-Road Compression-Ignition Engines | 11/15/2006 | [Insert Federal Register citation], 6/16/2016 | The requirements of section 2424 recognize that certain emissions-critical or emissions-related parts must be properly identified and maintained in order for engines to meet the applicable emissions standards.
2425 | Defects Warranty Requirements for 1996 and Later Off-Road Compression-Ignition Engines | 1/6/2006 | [Insert Federal Register citation], 6/16/2016 | Applies to new 1996-1999 model year heavy-duty off-road CI engines and new 2000 and later model year CI engines.
2425(e) | Defects Warranty Requirements for 1996 and Later Off-Road Compression-Ignition Engines | 11/15/2006 | [Insert Federal Register citation], 6/16/2016 | Requirement on manufacturers to furnish with each new engine written instructions for the maintenance and use of the engine by the owner.
2425.1 | Defect Investigation and Reporting Requirements | 1/6/2006 | [Insert Federal Register citation], 6/16/2016 | Applicability, general provisions, and investigation and reporting procedures.
2426 | Emission Control System Warranty Statement | 1/6/2006 | [Insert Federal Register citation], 6/16/2016 | Requires manufacturers to furnish a specific warranty statements with each 1996-1999 heavy-duty off-road CI engine.
2427 | Production Engine Testing, Selection, Evaluation, and Enforcement Action | 1/6/2006 | [Insert Federal Register citation], 6/16/2016 | Compliance test procedures, quality-audit test procedures, selective enforcement audit requirements.
Title 13 (Motor Vehicles), Division 3 (Air Resources Board), Chapter 9 (Off-Road Vehicles and Engines Pollution Control Devices), Article 4.5 (Off-Road Large Spark-Ignition Engines)
2430 | Applicability | 5/12/2007 | [Insert Federal Register citation], 6/16/2016 | Applies to LSI off-road engines 25 horsepower or greater after 1/1/2001 and all equipment and vehicles after 1/1/2001 that use such engines. On 1/1/2007, applicability remains the same but is defined in terms of kW (i.e., 19 kW and above).
2431(a), (a)(19), (a)(28) | Definitions | 5/12/2007 | [Insert Federal Register citation], 6/16/2016 | Definitions of “Family Emission Level or FEL” and “Off-Road Large Spark-Ignition Engines” or “LSI Engines.”
2433 | Emission Standards and Test Procedures—Off-Road Large Spark Ignition Engines | 5/12/2007 | [Insert Federal Register citation], 6/16/2016 | New off-road LSI exhaust, crankcase, and evaporative emission standards and test procedures.
2434(c) | Emission Control Labels—2001 and Later Off-Road Large Spark-Ignition Engines | 5/12/2007 | [Insert Federal Register citation], 6/16/2016 | Label content and location requirements.
2438(e)(7) | In-Use Compliance Program | 5/12/2007 | [Insert Federal Register citation], 6/16/2016 | Credit calculation.
Title 13 (Motor Vehicles), Division 3 (Air Resources Board), Chapter 9 (Off-Road Vehicles and Engines Pollution Control Devices), Article 4.7 (Spark-Ignition Marine Engines)
2440(a)(3) | Applicability | 8/16/2009 | [Insert Federal Register citation], 6/16/2016 | Exemption for spark-ignition sterndrive/inboard marine engines used solely for competition.
2442(a)(1), (a)(2), (b), (c), (d), (e), (f), (g), (h) | Emissions Standards | 8/16/2009 | [Insert Federal Register citation], 6/16/2016 | Model year 2001 and later model year spark-ignition personal watercraft and outboard marine engines; model year 2003 and later model year spark-ignition sterndrive/inboard marine engines; Not-to-Exceed (NTE) limits; voluntary standards; new replacement engine requirements for manufacturers; test equipment and test procedures.
2443.1(b)(1), (c)(2)(B), (c)(4)(B), (c)(4)(D), (c)(4)(G), (c)(4)(H), (d)(4)(B) | Emission Control Labels—Model Year 2001 and Later Spark-Ignition Marine Engines | 8/16/2009 | [Insert Federal Register citation], 6/16/2016 | Requirements related to emission control labels.
2443.2(b)(1), (c)(1), (c)(2), (e) | Consumer/Environmental Label Requirements | 8/16/2009 | [Insert Federal Register citation], 6/16/2016 | Label requirements for certified model year 2001 and later spark-ignition personal watercraft and outboard marine engines and certified model year 2003 and later spark-ignition sterndrive/inboard engines.
2444.1(a), (b)(3)(B), (b)(3)(E), (b)(3)(G), (e)(4)(A)(1. Through 10.), (e)(4)(B), (e)(4)(C)(1., 2., and 3.) | In-Use Compliance Testing and Recall Regulations—Model Year 2001 and Later Spark-Ignition Marine Engines | 8/16/2009 | [Insert Federal Register citation], 6/16/2016 | Recordkeeping and reporting requirements.
2444.2 | On-Board Engine Malfunction Detection System Requirements—Model Year 2007 and Later Spark-Ignition Sterndrive/Inboard Marine Engines | 8/16/2009 | [Insert Federal Register citation], 6/16/2016 | General requirements; monitoring requirements; additional audio/visual alert device activation and diagnostic trouble code storage protocol; tampering protection; certification documentation; testing, standardization, and implementation schedule.
2445.1(a), (c)(1), (c)(2), (c)(3), (e)(10), (e)(11), (g)(2)(A) | Defects Warranty Requirements for Model Year 2001 and Later Spark-Ignition Marine Engines | 8/16/2009 | [Insert Federal Register citation], 6/16/2016 | Warranty requirements.
2445.2(a) | Emission Control Warranty Statements | 8/16/2009 | [Insert Federal Register citation], 6/16/2016 | Emission control warranty statement requirements.
2446(a), (b)(4)(B), (c)(1)(A), (c)(1)(B), (c)(2)(A), (c)(3)(D), (c)(3)(E), (d)(3)(D), (d)(5), (e) | 2001 and Later Model Year Production-Line Test Procedures and Selective Enforcement Auditing Regulations for Spark-Ignition Marine Engines | 8/16/2009 | [Insert Federal Register citation], 6/16/2016 | Applicability provision; certain quality-audit line test procedures for 2001 and later model years; test procedures; selective enforcement auditing regulations.
2447 | California Exhaust Emission Standards and Test Procedures for 2001 Model Year and Later Spark-Ignition Marine Engines | 8/16/2009 | [Insert Federal Register citation], 6/16/2016 | Certain test procedures are incorporated by reference.
Title 13 (Motor Vehicles), Division 3 (Air Resources Board), Chapter 9 (Off-Road Vehicles and Engines Pollution Control Devices), Article 4.8 (In-Use Off-Road Diesel-Fueled Fleets)
2449, excluding (d)(2) | General Requirements for In-Use Off-Road Diesel-Fueled Fleets | 12/14/2011 | [Insert Federal Register citation], 6/16/2016 | Applicability, definitions, performance requirements (different requirements apply to large, medium and small fleets), compliance date extension provision, labeling requirements, reporting and recordkeeping requirements. Excluded subsection relates to idling limits.
2449.1 | Performance Requirements | 12/14/2011 | [Insert Federal Register citation], 6/16/2016 | Establishes fleet average requirements and compliance dates, BACT provisions, credit provisions.
2449.2, excluding (f)(4) | Surplus Off-Road Opt-In for NOX (SOON) Program | 12/14/2011 | [Insert Federal Register citation], 6/16/2016 | Purpose is to achieve additional reductions of NOX from in-use off-road diesel-fueled vehicles beyond those achieved through implementation of the requirements in 13 CCR §§ 2449 and 2449.1. Applicability, definitions, requirements, SOON targets, local air district opt-in provisions.
Title 13 (Motor Vehicles), Division 3 (Air Resources Board), Chapter 9 (Off-Road Vehicles and Engines Pollution Control Devices), Article 5 (Portable Engine and Equipment Registration)
2451 | Applicability | 09/12/2007 | [Insert Federal Register citation], 6/16/2016 | Voluntary registration program for owners or portable engines or equipment units, with certain exceptions. If not registered under this program, the engine or equipment units shall be subject to district permitting requirements pursuant to district regulations.
2452 | Definitions | 09/12/2007 | [Insert Federal Register citation], 6/16/2016 | Definitions that apply to the portable engine and equipment registration regulations.
2453 | Application Process | 09/12/2007 | [Insert Federal Register citation], 6/16/2016 | To be considered for registration, portable engines or equipment units must meet the requirements in article 5, including the application-related requirements in this section.
2455, excluding (a) and (b) | General Requirements | 09/12/2007 | [Insert Federal Register citation], 6/16/2016 | Provisions related to operation of portable engines and equipment units during emergency events; PSD notification requirements if the registered equipment unit operates at a major stationary source. Excluded subsections relate to attainment or maintenance of ambient air quality standards, nuisance, and opacity.
2456, excluding (a), (d)(3), (d)(5), and (d)(6) | Engine Requirements | 09/12/2007 | [Insert Federal Register citation], 6/16/2016 | Various requirements specified for different categories of engines. Excluded subsections relate to opacity limits, fuel specifications, and daily and annual mass (per engine) limits.
2458 | Recordkeeping and Reporting | 09/12/2007 | [Insert Federal Register citation], 6/16/2016 | Recordkeeping and reporting requirements for owners of registered portable engines and equipment units.
2459 | Notification | 09/12/2007 | [Insert Federal Register citation], 6/16/2016 | In most instances, if a registered equipment unit will be at a location for more than five days, the owner or operator of that equipment must notify the district in writing.
2460 | Inspections and Testing | 09/12/2007 | [Insert Federal Register citation], 6/16/2016 | Authorization for CARB to conduct testing both before and after registration in the program. Districts must inspect all register engines and equipment units for which the district has been designated as the home district. Test methods are specified.
2461 | Fees | 09/12/2007 | [Insert Federal Register citation], 6/16/2016 | Provisions establishing fees for registration, renewal, and associated administrative tasks.
2462 | Duration of Registration | 09/12/2007 | [Insert Federal Register citation], 6/16/2016 | Registrations and renewal are generally valid for three years from the date of issuance.
Title 13 (Motor Vehicles), Division 3 (Air Resources Board), Chapter 9 (Off-Road Vehicles and Engines Pollution Control Devices), Article 7 (Certification Procedures for Aftermarket Parts for Off-Road Vehicles, Engines, Equipment)
2474(e), (i)(1) | Add-On Parts and Modified Parts | 08/16/2009 | [Insert Federal Register citation], 6/16/2016 | Incorporation of procedures for exemptions of add-on and modified parts for off-road categories.
Title 13 (Motor Vehicles), Division 3 (Air Resources Board), Chapter 9 (Off-Road Vehicles and Engines Pollution Control Devices), Article 8 (Off-Road Airborne Toxic Control Measures)
2477 | Airborne Toxic Control Measure for In-Use Diesel-Fueled Transport Refrigeration Units (TRU) and TRU Generator Sets, and Facilities Where TRUs Operate | 3/7/2011 | [Insert Federal Register citation], 6/16/2016 | Regulation applies, with certain exceptions, to owners and operators of diesel fueled TRUs and TRU generator sets used to power electrically drive refrigerated shipping containers and trailers that are operated in California; definitions; in-use performance standards; in-use compliance dates; monitoring, recordkeeping and reporting requirements; prohibitions; penalties.
2479, excluding (e)(2) and (e)(4) | Regulation for Mobile Cargo Handling Equipment at Ports and Intermodal Rail Yards | 12/31/2006 | [Insert Federal Register citation], 6/16/2016 | Applies to any person who conducts business in California who sells, offers for sale, leases, rents, purchases, owns or operates any CI mobile cargo handling equipment that operates at any California port or intermodal rail yard. Includes exemptions, definitions, performance standards for newly purchased leased or rented yard trucks and non-yard truck cargo handling equipment, provisions for compliance extensions and alternative compliance plans, recordkeeping and reporting requirements, test methods. Excluded subsections relate to in-use performance standards for yard trucks, and fuel requirements.
2479(a), (b), (c), (d), (e)(1), (e)(3), (e)(5), (f)(1), (f)(2), (f)(3), (f)(6), (h)(1), (i), (j)(1), (j)(2), (j)(3), (k), (l), (m), (n), (o), (p), (q), (r) | Regulation for Mobile Cargo Handling Equipment at Ports and Intermodal Rail Yards | 10/14/2012 | [Insert Federal Register citation], 6/16/2016 | Amendments to exemptions, definitions, performance standards for newly purchased leased or rented equipment and in-use performance standards for non-yard truck mobile CHE, provisions for compliance extensions and alternative compliance plans, recordkeeping and reporting requirements, test methods.
Title 13 (Motor Vehicles), Division 3 (Air Resources Board), Chapter 10 (Mobile Source Operational Controls), Article 1 (Motor Vehicles)
2485, excluding (c)(1)(A), (c)(1)(B), (c)(3)(B) | Airborne Toxic Control Measure to Limit Diesel-Fueled Commercial Motor Vehicle Idling | 11/15/2006 | [Insert Federal Register citation], 6/16/2016 | Establishes requirements to reduce emissions from idling of diesel-fueled commercial motor vehicles that operate in California with gross vehicle weight ratings greater than 10,000 pounds; exceptions; enforcement and penalty provisions; definitions. Excluded subsections relate to idling restrictions on drivers and a fuel-fired heater provision.
* * * * * * *
Title 13 (Motor Vehicles), Division 3 (Air Resources Board), Chapter 15 (Additional Off-Road Vehicles and Engines Pollution Control Requirements), Article 2 (Large Spark Ignition (LSI) Engines Fleet Requirements)
2775 | Applicability | 5/12/2007 | [Insert Federal Register citation], 6/16/2016 | Applies to operators of certain off-road LSI engine forklifts, sweepers/scrubbers, industrial tow tractors or airport ground support equipment operated within the State of California. Exemptions provided for small fleets and certain other equipment. Includes definitions.
2775.1 | Standards | 5/12/2007 | [Insert Federal Register citation], 6/16/2016 | Establishes fleet average emission level standards with certain exceptions.
2775.2 | Compliance Requirements for Fleet Operators | 5/12/2007 | [Insert Federal Register citation], 6/16/2016 | Compliance and recordkeeping requirements, provisions for extensions in compliance dates.
* * * * * * *
93116 | Purpose | 3/11/2005 | [Insert Federal Register citation], 6/16/2016 | Purpose is to reduce diesel particulate matter emissions from portable diesel-fueled engines having a rated brake horsepower of 50 and greater.
93116.1 | Applicability | 3/11/2005 | [Insert Federal Register citation], 6/16/2016 | Applies to all portable engines having a maximum rated horse horsepower of 50 bhp and greater and fueled with diesel unless exempted under (b).
93116.2 | Definitions | 3/11/2005 | [Insert Federal Register citation], 6/16/2016 | Defines specific terms used in the regulation.
93116.3, excluding (a) | Requirements | 3/11/2005 | [Insert Federal Register citation], 6/16/2016 | Diesel PM standards for in-use portable diesel-fueled engines; different requirements apply to such engines not permitted or registered prior to January 1, 2006; fleet requirements (for subject engines operated in California), fleet average calculation provisions. Excluded subsection relates to fuel requirements.
93116.4 | Fleet Recordkeeping and Reporting Requirements | 3/11/2005 | [Insert Federal Register citation], 6/16/2016 | Fleet recordkeeping and reporting requirements.
93116.5 | Enforcement of Fleet Requirements | 3/11/2005 | [Insert Federal Register citation], 6/16/2016 | Authority to review and seek enforcement action for violation of the fleet emission standard.
93118.3 | Airborne Toxic Control Measure for Auxiliary Diesel Engines Operated on Ocean-Going Vessels At-Berth in a California Port | 1/2/2009 | [Insert Federal Register citation], 6/16/2016 | Applicability, exemptions, definitions, vessel in-use operational requirements, calculation procedures for certain options, terminal plan requirements, reporting and recordkeeping requirements.
93118.5, excluding (e)(1) | Airborne Toxic Control Measure for Commercial Harbor Craft | 11/19/2008 | [Insert Federal Register citation], 6/16/2016 | Applicability, exemptions, definitions, engine emission requirements, alternative control provisions, recordkeeping and reporting requirements, test methods. Excluded subsection relates to the low sulfur fuel use requirement.
* * * * * * *
¹ Table 1 lists EPA-approved California statutes and regulations incorporated by reference in the applicable SIP. Table 2 of paragraph (c) lists approved California test procedures, test methods and specifications that are cited in certain regulations listed in Table 1. Approved California statutes that are nonregulatory or quasi-regulatory are listed in paragraph (e).

Table 2—EPA-Approved California Test Procedures, Test Methods, and Specifications
Title/subject | State effective date | EPA approval date | Additional explanation
| * * * * * * *
California Exhaust Emission Standards and Test Procedures for 2001 and Subsequent Model Passenger Cars, Light-Duty Trucks and Medium-Duty Vehicles, as last amended September 5, 2003 | 12/4/2003 | [Insert Federal Register citation], 6/16/2016 | Submitted by CARB on August 14, 2015.
California Motor Vehicle Emission Control and Smog Index Label Specifications for 1978 through 2003 Model Year Motorcycles, Light-, Medium- and Heavy-Duty Engines and Vehicles,” as last amended September 5, 2003 | 12/4/2003 | [Insert Federal Register citation], 6/16/2016 | Submitted by CARB on August 14, 2015.\
California Smog Index Label Specifications for 2004 and Subsequent Model Passenger Cars and Light-Duty Trucks,” adopted September 5, 2003 | 12/4/2003 | [Insert Federal Register citation], 6/16/2016 | Submitted by CARB on August 14, 2015.
California Refueling Emission Standards and Test Procedures for 2001 and Subsequent Model Motor Vehicles, as last amended September 5, 2003 | 12/4/2003 | [Insert Federal Register citation], 6/16/2016 | Submitted by CARB on August 14, 2015.
California Evaporative Emission Standards and Test Procedures for 2001 and Subsequent Model Motor Vehicles, as amended June 22, 2006 | 2/17/2007 | [Insert Federal Register citation], 6/16/2016 | Submitted by CARB on August 14, 2015.
California Refueling Emission Standards and Test Procedures for 2001 and Subsequent Model Motor Vehicles, as last amended June 22, 2006 | 2/17/2007 | [Insert Federal Register citation], 6/16/2016 | Submitted by CARB on August 14, 2015.
California Exhaust Emission Standards Test Procedures for 2001 and Subsequent Model Passenger Cars, Light-Duty Trucks, and Medium-Duty Vehicles, as last amended June 22, 2006 | 2/17/2007 | [Insert Federal Register citation], 6/16/2016 | Submitted by CARB on August 14, 2015.
California Exhaust Emission Standards and Test Procedures for 2004 and Subsequent Model Heavy-Duty Diesel Engines and Vehicles, as last amended March 22, 2012 | 8/7/2012 | [Insert Federal Register citation], 6/16/2016 | Submitted by CARB on August 14, 2015.
California Exhaust Emission Standards and Test Procedures for 2004 and Subsequent Model Heavy-Duty Otto-Cycle Engines, as last amended March 22, 2012 | 8/7/2012 | [Insert Federal Register citation], 6/16/2016 | Submitted by CARB on August 14, 2015.
California Non-Methane Organic Gas Test Procedures, as last amended March 22, 2012 | 8/7/2012 | [Insert Federal Register citation], 6/16/2016 | Submitted by CARB on August 14, 2015.
California 2001 through 2014 Model Criteria Pollutant Exhaust Emission Standards and Test Procedures and 2009 through 2016 Model Greenhouse Gas Exhaust Emission Standards and Test Procedures for Passenger Cars, Light-Duty Trucks, and Medium-Duty Vehicles, as last amended March 22, 2012, excluding GHG-related provisions | 8/7/2012 | [Insert Federal Register citation], 6/16/2016 | Submitted by CARB on August 14, 2015.
California Environmental Performance Label Specifications for 2009 and Subsequent Model Year Passenger Cars, Light-Duty Trucks, and Medium-Duty Passenger Vehicles, as last amended March 22, 2012 | 8/7/2012 | [Insert Federal Register citation], 6/16/2016 | Submitted by CARB on August 14, 2015.
California Evaporative Emission Standards and Test Procedures for 2001 and Subsequent Model Motor Vehicles, as last amended March 22, 2012 | 8/7/2012 | [Insert Federal Register citation], 6/16/2016 | Submitted by CARB on August 14, 2015.
California Refueling Emission Standards and Test Procedures for 2001 and Subsequent Model Motor Vehicles, as last amended March 22, 2012 | 8/7/2012 | [Insert Federal Register citation], 6/16/2016 | Submitted by CARB on August 14, 2015.
Specifications for Fill Pipes and Openings of 1977 through 2014 Model Motor Vehicle Fuel Tanks, as last amended March 22, 2012 | 8/7/2012 | [Insert Federal Register citation], 6/16/2016 | Submitted by CARB on August 14, 2015.
Specifications for Fill Pipes and Openings of 2015 and Subsequent Model Motor Vehicle Fuel Tanks, adopted March 22, 2012 | 8/7/2012 | [Insert Federal Register citation], 6/16/2016 | Submitted by CARB on August 14, 2015.
California 2015 and Subsequent Model Criteria Pollutant Exhaust Emission Standards and Test Procedures and 2017 and Subsequent Model Greenhouse Gas Exhaust Emission Standards and Test Procedures for Passenger Cars, Light-Duty Trucks, and Medium-Duty Vehicles, adopted March 22, 2012, excluding GHG-related provisions | 8/7/2012 | [Insert Federal Register citation], 6/16/2016 | Submitted by CARB on August 14, 2015.
California Exhaust Emission Standards and Test Procedures for 2009 through 2017 Model Zero-Emission Vehicles and Hybrid Electric Vehicles, in the Passenger Car, Light-Duty Truck, and Medium-Duty Vehicle Classes, as last amended March 22, 2012, excluding GHG-related provisions | 8/7/2012 | [Insert Federal Register citation], 6/16/2016 | Submitted by CARB on August 14, 2015.
California Exhaust Emission Standards and Test Procedures for 2018 and Subsequent Model Zero-Emission Vehicles and Hybrid Electric Vehicles, in the Passenger Car, Light-Duty Truck, and Medium-Duty Vehicle Classes, adopted March 22, 2012, excluding GHG-related provisions | 8/7/2012 | [Insert Federal Register citation], 6/16/2016 | Submitted by CARB on August 14, 2015.
California 2015 and Subsequent Model Criteria Pollutant Exhaust Emission Standards and Test Procedures and 2017 and Subsequent Model Greenhouse Gas Exhaust Emission Standards and Test Procedures for Passenger Cars, Light-Duty Trucks, and Medium-Duty Vehicles, as last amended December 6, 2012, excluding GHG-related provisions | 12/31/2012 | [Insert Federal Register citation], 6/16/2016 | Submitted by CARB on August 14, 2015.
California 2001 through 2014 Model Criteria Pollutant Exhaust Emission Standards and Test Procedures and 2009 through 2016 Model Greenhouse Gas Exhaust Emission standards and Test Procedures for Passenger Cars, Light-Duty Trucks, and Medium-Duty Vehicles, as last amended December 6, 2012, excluding GHG-related provisions | 12/31/2012 | [Insert Federal Register citation], 6/16/2016 | Submitted by CARB on August 14, 2015.
California Non-Methane Organic Gas Test Procedures, as last amended December 6, 2012 | 12/31/2012 | [Insert Federal Register citation], 6/16/2016 | Submitted by CARB on August 14, 2015.
California Evaporative Emission Standards and Test Procedures for 2001 and Subsequent Model Motor Vehicles, as last amended December 6, 2012 | 12/31/2012 | [Insert Federal Register citation], 6/16/2016 | Submitted by CARB on August 14, 2015.
California Exhaust Emission Standards and Test Procedures for 2004 and Subsequent Model Heavy-Duty Otto-Cycle Engines, as last amended December 6, 2012 | 12/31/2012 | [Insert Federal Register citation], 6/16/2016 | Submitted by CARB on August 14, 2015.
California Exhaust Emission Standards and Test Procedures for 2004 and Subsequent Model Heavy-Duty Diesel Engines and Vehicles, as last amended December 6, 2012 | 12/31/2012 | [Insert Federal Register citation], 6/16/2016 | Submitted by CARB on August 14, 2015.
California Exhaust Emission Standards and Test Procedures for 2009 through 2017 Model Zero-Emission Vehicles and Hybrid Electric Vehicles, in the Passenger Car, Light-Duty Truck, and Medium-Duty Vehicle Classes, as last amended December 6, 2012 | 12/31/2012 | [Insert Federal Register citation], 6/16/2016 | Submitted by CARB on August 14, 2015.
California Exhaust Emission Standards and Test Procedures for 2018 and Subsequent Model Zero-Emission Vehicles and Hybrid Vehicles, in the Passenger Car, Light-Duty Truck, and Medium-Duty Vehicle Classes, adopted December 6, 2012, excluding GHG-related provisions | 12/31/2012 | [Insert Federal Register citation], 6/16/2016 | Submitted by CARB on August 14, 2015.
California Exhaust Emission Standards and Test Procedures for 2004 and Subsequent Model Heavy-Duty Otto-cycle Engines, as last amended December 12, 2002 | 12/4/2003 | [Insert Federal Register citation], 6/16/2016 | Submitted by CARB on August 14, 2015.
California Exhaust Emission Standards and Test Procedures for 1985 and Subsequent Model Heavy-Duty Diesel Engines and Vehicles, as last amended October 25, 2001 | 11/17/2002 | [Insert Federal Register citation], 6/16/2016 | Submitted by CARB on August 14, 2015.
California Motor Vehicle Emission Control and Smog Index Label Specifications, as last amended October 22, 1999 | 11/22/1999 | [Insert Federal Register citation], 6/16/2016 | Submitted by CARB on August 14, 2015.
California Exhaust Emission Standards and Test Procedures for 2004 and Subsequent Model Heavy-Duty Diesel Engines, as last amended September 1, 2006 | 11/15/2006 | [Insert Federal Register citation], 6/16/2016 | Submitted by CARB on August 14, 2015.
California Exhaust Emission Standards and Test Procedures for New 2001 through 2006 Off-Road Large Spark-Ignition Engines, Parts I and II, adopted September 1, 1999 and as last amended March 2, 2007 | 5/12/2007 | [Insert Federal Register citation], 6/16/2016 | Submitted by CARB on August 14, 2015.
California Exhaust and Evaporative Emission Standards and Test Procedures for 2007 through 2009 Off-Road Large Spark-Ignition Engines, (2007-2009 Test Procedure 1048), adopted March 2, 2007 | 5/12/2007 | [Insert Federal Register citation], 6/16/2016 | Submitted by CARB on August 14, 2015.
California Exhaust and Evaporative Emission Standards and Test Procedures for New 2010 and Later Off-Road Large Spark-Ignition Engines, (2010 and Later Test Procedure 1048), adopted March 2, 2007 | 5/12/2007 | [Insert Federal Register citation], 6/16/2016 | Submitted by CARB on August 14, 2015.
California Exhaust and Evaporative Emission Standards and Test Procedures for New 2007 and Later Off-Road Large Spark-Ignition Engines (Test Procedures 1065 and 1068), adopted March 2, 2007 | 5/12/2007 | [Insert Federal Register citation], 6/16/2016 | Submitted by CARB on August 14, 2015.
California Exhaust Emission Standards and Test Procedures for 2005 and Later Small Off-Road Engines, as last amended February 24, 2010 | 5/5/2010 | [Insert Federal Register citation], 6/16/2016 | Submitted by CARB on August 14, 2015.
California Exhaust Emission Standards and Test Procedures for New 2000 and Later Tier 1, Tier 2, and Tier 3 Off-Road Compression-Ignition Engines, Part I-B, adopted January 28, 2000 and as last amended October 20, 2005 | 1/6/2006 | [Insert Federal Register citation], 6/16/2016 | Submitted by CARB on August 14, 2015.
California Exhaust Emission Standards and Test Procedures for New 1996 and Later Tier 1, Tier 2, and Tier 3 Off-Road Compression-Ignition Engines, Part II, adopted May 12, 1993 and as last amended October 20, 2005 | 1/6/2006 | [Insert Federal Register citation], 6/16/2016 | Submitted by CARB on August 14, 2015.
California Exhaust Emission Standards and Test Procedures for New 2008 and Later Tier 4 Off-Road Compression-Ignition Engines, Part I-C, adopted October 20, 2005 | 1/6/2006 | [Insert Federal Register citation], 6/16/2016 | Submitted by CARB on August 14, 2015.
California Exhaust Emission Standards and Test Procedures for 2001 Model Year and Later Spark-Ignition Marine Engines, as last amended June 5, 2009 | 8/16/2009 | [Insert Federal Register citation], 6/16/2016 | Submitted by CARB on August 14, 2015.
Procedures for Exemption of Add-On and Modified Parts for Off-Road Categories, as last amended June 5, 2009 | 8/16/2009 | [Insert Federal Register citation], 6/16/2016 | Submitted by CARB on August 14, 2015.
California Exhaust Emissions Standards and Test Procedures for 1997 and Later Off-Highway Recreational Vehicles, and Engines, as last amended August 15, 2007 | 8/15/2007 | [Insert Federal Register citation], 6/16/2016 | Submitted by CARB on August 14, 2015.

* * * * *

[FR Doc. 2016-13941 Filed 6-15-16; 8:45 am]

BILLING CODE 6560-50-P